DEPARTMENT OF HOUSING AND URBAN DEVELOPMENT

[Docket No. FR-5375-N-34]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Kathy Ezzell, Department of Housing and Urban Development, 451 Seventh Street, SW., Room 7266, Washington, DC 20410; telephone (202) 708-1234; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Rita, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Air Force: Mr. Robert Moore, Air Force Real Property Agency, 2261 Hughes Ave., Lackland AFB, TX 78236; (210) 424-8247; GSA: Mr. Gordon Creed, Acting Deputy Assistant Commissioner, General Services Administration, Office of Property Disposal, 18th & F Streets, NW., Washington, DC 20405; (202) 501-0084; Interior: Mr. Michael Wright, Acquisition & Property Management, Department of the Interior, 1849 C Street, NW., Washington, DC 20240: (202) 208-5399; Navy: Mr. Albert Johnson, Director of Real Estate, Department of the Navy, Naval Facilities Engineering Command, Washington Navy Yard, 1330 Patterson Ave., SW., Suite 1000, Washington, DC 20374; (202) 685-9305; (These are not toll-free numbers).

Dated: August 26, 2010.
Mark R. Johnston,
Deputy Assistant Secretary for Special Programs.

TITLE V, FEDERAL SURPLUS PROPERTY PROGRAM—FEDERAL REGISTER REPORT FOR 09/03/2010

Suitable/Available Properties

Building

California

Facility 1

OTHB Radar Site

Tulelake CA 91634

Landholding Agency: Air Force

Property Number: 18200830012

Status: Unutilized

Comments: 7,920 sq. ft., most recent use—communications

Facility 2

OTHB Radar Site

Tulelake CA 91634

Landholding Agency: Air Force

Property Number: 18200830014

Status: Unutilized

Comments: 900 sq. ft., most recent use—veh maint shop

Facilities 3, 4

OTHB Radar Site

Tulelake CA 91634

Landholding Agency: Air Force

Property Number: 18200830015

Status: Unutilized

Comments: 4,160 sq. ft. each, most recent use—communications

Facility 1

OTHB Radar Site

Christmas Valley CA 97641

Landholding Agency: Air Force

Property Number: 18200830016

Status: Unutilized

Comments: 16,566 sq. ft., most recent use—communications

Facility 2

OTHB Radar Site

Christmas Valley CA 97641

Landholding Agency: Air Force

Property Number: 18200830017

Status: Unutilized

Comments: 900 sq. ft., most recent use—veh maint shop

Facility 4

OTHB Radar Site

Christmas Valley CA 97641

Landholding Agency: Air Force

Property Number: 18200830018

Status: Unutilized

Comments: 14,190 sq. ft., most recent use—communications

Facility 6

OTHB Radar Site

Christmas Valley CA 97641

Landholding Agency: Air Force

Property Number: 18200830019

Status: Unutilized

Comments: 14,190 sq. ft., most recent use—transmitter bldg.

Colorado

7 Bldgs.

U.S. Air Force Academy

El Paso CO 80840

Landholding Agency: Air Force

Property Number: 18201020002

Status: Unutilized

Directions: 6501, 6502, 6503, 6504, 6505, 6507, and 6508

Comments: 2,222 sq. ft. each

Bldg. 6506

US Air Force Academy

El Paso CO 80840

Landholding Agency: Air Force

Property Number: 18201020019

Status: Unutilized

Comments: 2,222 sq. ft.

Hawaii

Bldg. 849

Bellows AFS

Bellows AFS HI

Landholding Agency: Air Force

Property Number: 18200330008

Status: Unutilized

Comments: 462 sq. ft., concrete storage facility, off-site use only

Maine

Bldgs 1, 2, 3, 4

OTH-B Radar Site

Columbia Falls ME

Landholding Agency: Air Force

Property Number: 18200840009

Status: Unutilized

Comments: various sq. ft., most recent use—storage/office

New York

Bldg. 240

Rome Lab

Rome Co: Oneida NY 13441

Landholding Agency: Air Force

Property Number: 18200340023

Status: Unutilized

Comments: 39,108 sq. ft., presence of asbestos, most recent use—Electronic Research Lab

Bldg. 247

Rome Lab

Rome Co: Oneida NY 13441

Landholding Agency: Air Force

Property Number: 18200340024

Status: Unutilized

Comments: 13,199 sq. ft., presence of asbestos, most recent use—Electronic Research Lab

Bldg. 248

Rome Lab

Rome Co: Oneida NY 13441

Landholding Agency: Air Force

Property Number: 18200340025

Status: Unutilized

Comments: 4,000 sq. ft., presence of asbestos, most recent use—Electronic Research Lab

Bldg. 302

Rome Lab

Rome Co: Oneida NY 13441

Landholding Agency: Air Force

Property Number: 18200340026

Status: Unutilized

Comments: 10,288 sq. ft., presence of asbestos, most recent use—communications facility

Bldg. 606

NSU Saratoga Springs

Scotia NY 12302

Landholding Agency: Navy

Property Number: 77201020019

Status: Excess

Comments: 137,409 sq. ft. on 5.76 acres; most recent use: Navy exchange and storage

South Carolina

256 Housing Units

Charleston AFB

South Side Housing

Charleston SC

Landholding Agency: Air Force

Property Number: 18200920001

Status: Excess

Comments: various sq. ft., presence of asbestos/lead paint, off-site use only

Land

Arizona

0.30 acre

Bethany Home Road

Glendale AZ 85306

Landholding Agency: GSA

Property Number: 54201030010

Status: Excess

GSA Number: 9-I-AZ-0859

Comments: 10 feet wide access road

California

Parcels L1 & L2

George AFB

Victorville CA 92394

Landholding Agency: Air Force

Property Number: 18200820034

Status: Excess

Comments: 157 acres/desert, pump-and-treat system, groundwater restrictions, AF access rights, access restrictions, environmental concerns

Parcel F-2 Right of Way

Seal Beach CA 90740

Landholding Agency: GSA

Property Number: 54201030012

Status: Surplus

GSA Number: 9-N-CA-1508-AI

Comments: 6331.62 sq. ft., encroachment

Parcel F-4 Right of Way

Seal Beach CA

Landholding Agency: GSA

Property Number: 54201030014

Status: Surplus

GSA Number: 9-N-CA-1508-AK

Comments: 126.32 sq. ft., within 3 ft. set back required by City

Missouri

Communications Site

County Road 424

Dexter Co: Stoddard MO

Landholding Agency: Air Force

Property Number: 18200710001

Status: Unutilized

Comments: 10.63 acres

Outer Marker Annex

Whiteman AFB

Knob Noster MO 65336

Landholding Agency: Air Force

Property Number: 18200940001

Status: Unutilized

Comments: 0.75 acres, most recent use—communication

Annex No. 3

Whiteman AFB

Knob Noster MO 65336

Landholding Agency: Air Force

Property Number: 18201020001

Status: Underutilized

Comments: 9 acres

North Carolina

0.14 acres

Pope AFB

Pope AFB NC

Landholding Agency: Air Force

Property Number: 18200810001

Status: Excess

Comments: most recent use—middle marker, easement for entry

Texas

0.13 acres

DYAB, Dyess AFB

Tye Co: Taylor TX 79563

Landholding Agency: Air Force

Property Number: 18200810002

Status: Unutilized

Comments: most recent use—middle marker, access limitation

Suitable/Unavailable Properties

Building

Washington

Bldg. 404/Geiger Heights

Fairchild AFB

Spokane WA 99224

Landholding Agency: Air Force

Property Number: 18200420002

Status: Unutilized

Comments: 1996 sq. ft., possible asbestos/lead paint, most recent use—residential

11 Bldgs./Geiger Heights

Fairchild AFB

Spokane WA 99224

Landholding Agency: Air Force

Property Number: 18200420003

Status: Unutilized

Comments: 2134 sq. ft., possible asbestos/lead paint, most recent use—residential

Bldg. 297/Geiger Heights

Fairchild AFB

Spokane WA 99224

Landholding Agency: Air Force

Property Number: 18200420004

Status: Unutilized

Comments: 1425 sq. ft., possible asbestos/lead paint, most recent use—residential

9 Bldgs./Geiger Heights

Fairchild AFB

Spokane WA 99224

Landholding Agency: Air Force

Property Number: 18200420005

Status: Unutilized

Comments: 1620 sq. ft., possible asbestos/lead paint, most recent use—residential

22 Bldgs./Geiger Heights Fairchild AFB

Spokane WA 99224

Landholding Agency: Air Force

Property Number: 18200420006

Status: Unutilized

Comments: 2850 sq. ft., possible asbestos/lead paint, most recent use—residential

51 Bldgs./Geiger Heights

Fairchild AFB

Spokane WA 99224

Landholding Agency: Air Force

Property Number: 18200420007

Status: Unutilized

Comments: 2574 sq. ft., possible asbestos/lead paint, most recent use—residential

Bldg. 402/Geiger Heights

Fairchild AFB

Spokane WA 99224

Landholding Agency: Air Force

Property Number: 18200420008

Status: Unutilized

Comments: 2451 sq. ft., possible asbestos/lead paint, most recent use—residential

5 Bldgs./Geiger Heights

Fairchild AFB

222, 224, 271, 295, 260

Spokane WA 99224

Landholding Agency: Air Force

Property Number: 18200420009

Status: Unutilized

Comments: 3043 sq. ft., possible asbestos/lead paint, most recent use—residential

5 Bldgs./Geiger Heights

Fairchild AFB

102, 183, 118, 136, 113

Spokane WA 99224

Landholding Agency: Air Force

Property Number: 18200420010

Status: Unutilized

Comments: 2599 sq. ft., possible asbestos/lead paint, most recent use—residential

Land

Hawaii

6 Parcels

Naval Station

Pearl Harbor HI 96818

Landholding Agency: Navy

Property Number: 77200840012

Status: Unutilized

Comments: various acres; encumbered by substantial improvements owned by a private navy tenant

South Dakota

Tract 133

Ellsworth AFB

Box Elder Co: Pennington SD 57706

Landholding Agency: Air Force

Property Number: 18200310004

Status: Unutilized

Comments: 53.23 acres

Tract 67

Ellsworth AFB

Box Elder Co: Pennington SD 57706

Landholding Agency: Air Force

Property Number: 18200310005

Status: Unutilized

Comments: 121 acres, bentonite layer in soil, causes movement

Virginia

1 acre

Marine Corps Base

Quantico VA

Landholding Agency: Navy

Property Number: 77201020014

Status: Underutilized

Comments: land encumbered

Unsuitable Properties

Building

Alabama

5 Bldgs.

Maxwell-Gunter AFB

Maxwell AL 36112

Landholding Agency: Air Force

Property Number: 18201030001 Status: Unutilized

Directions: 28, 423, 811, 839, 1081

Reasons: Secured Area

Alaska

Bldg. 9485

Elmendorf AFB

Elmendorf AK

Landholding Agency: Air Force

Property Number: 18200730001

Status: Unutilized

Reasons: Secured Area

Bldg. 70500

Seward AFB

Seward AK 99664

Landholding Agency: Air Force

Property Number: 18200820001

Status: Unutilized

Reasons: Secured Area

Bldg. 3224

Eielson AFB

Eielson AK 99702

Landholding Agency: Air Force

Property Number: 18200820002

Status: Unutilized

Reasons: Extensive deterioration, Secured Area

Bldgs. 1437, 1190, 2375

Eielson AFB

Eielson AK

Landholding Agency: Air Force

Property Number: 18200830001

Status: Unutilized

Reasons: Secured Area, Extensive deterioration

5 Bldgs.

Eielson AFB

Eielson AK

Landholding Agency: Air Force

Property Number: 18200830002

Status: Unutilized

Directions: 3300, 3301, 3315, 3347, 3383

Reasons: Extensive deterioration, Secured Area

4 Bldgs.

Eielson AFB

Eielson AK

Landholding Agency: Air Force

Property Number: 18200830003

Status: Unutilized

Directions: 4040, 4332, 4333, 4480

Reasons: Secured Area, Extensive deterioration

Bldgs. 6122, 6205

Eielson AFB

Eielson AK

Landholding Agency: Air Force

Property Number: 18200830004

Status: Unutilized

Reasons: Extensive deterioration, Secured Area

Bldg. 8128

Elmendorf AFB

Elmendorf AK 99506

Landholding Agency: Air Force

Property Number: 18200830005

Status: Underutilized

Reasons: Secured Area

Bldg. 7111

Elmendorf AFB

Anchorage AK

Landholding Agency: Air Force

Property Number: 18200920014

Status: Unutilized

Reasons: Secured Area

Bldgs. 615, 617, 751, 753

Eareckson Air Station

Shemya Island AK

Landholding Agency: Air Force

Property Number: 18200920015

Status: Unutilized

Reasons: Within 2000 ft. of flammable or explosive material, Within airport runway clear zone, Extensive deterioration, Secured Area

Bldgs. 100, 101

Point Barrow Long Range

Radar Site

Point Barrow AK

Landholding Agency: Air Force

Property Number: 18201010001

Status: Unutilized

Reasons: Within 2000 ft. of flammable or explosive material, Within airport runway clear zone

Bldg. 100 and 101

Long Range Radar Site

Point Barrow AK

Landholding Agency: Air Force

Property Number: 18201020003

Status: Unutilized

Reasons: Within 2000 ft. of flammable or explosive material, Within airport runway clear zone

7 Bldgs.

Eareckson Air Station

Eareckson AK 99546

Landholding Agency: Air Force

Property Number: 18201020004

Status: Unutilized

Directions: 132, 152, 153, 750, 3013, 3016, and 4012

Reasons: Within airport runway clear zone, Extensive deterioration, Secured Area

Arizona

Railroad Spur

Davis-Monthan AFB

Tucson AZ 85707

Landholding Agency: Air Force

Property Number: 18200730002

Status: Excess

Reasons: Within airport runway clear zone

California

Garages 25001 thru 25100

Edwards AFB

Area A

Los Angeles CA 93524

Landholding Agency: Air Force

Property Number: 18200620003

Status: Unutilized

Reasons: Secured Area, Extensive deterioration

Bldg. 00275

Edwards AFB

Kern CA 93524

Landholding Agency: Air Force

Property Number: 18200730003

Status: Unutilized

Reasons: Within airport runway clear zone, Extensive deterioration, Secured Area

Bldgs. 02845, 05331, 06790

Edwards AFB

Kern CA 93524

Landholding Agency: Air Force

Property Number: 18200740001

Status: Unutilized

Reasons: Extensive deterioration

Bldgs. 07173, 07175, 07980

Edwards AFB

Kern CA 93524

Landholding Agency: Air Force

Property Number: 18200740002

Status: Unutilized

Reasons: Secured Area

Bldg. 5308

Edwards AFB

Kern CA 93523

Landholding Agency: Air Force

Property Number: 18200810003

Status: Unutilized

Reasons: Extensive deterioration, Secured Area

Facility 100

Pt. Arena AF Station

Mendocino CA 95468

Landholding Agency: Air Force

Property Number: 18200810004

Status: Excess

Reasons: Extensive deterioration, Secured Area

Bldgs. 1952, 1953, 1957, 1958

Vandenberg AFB

Vandenberg CA 93437

Landholding Agency: Air Force

Property Number: 18200820007

Status: Unutilized

Reasons: Secured Area

Bldgs. 1992, 1995

Vandenberg AFB

Vandenberg CA 93437

Landholding Agency: Air Force

Property Number: 18200820008

Status: Unutilized

Reasons: Secured Area

5 Bldgs.

Pt. Arena AF Station

101, 102, 104, 105, 108

Mendocino CA 95468

Landholding Agency: Air Force

Property Number: 18200820019

Status: Excess

Reasons: Extensive deterioration, Secured Area

Bldgs. 160, 161, 166

Pt. Arena AF Station

Mendocino CA 95468

Landholding Agency: Air Force

Property Number: 18200820020

Status: Excess

Reasons: Secured Area, Extensive deterioration

8 Bldgs.

Pt. Arena AF Station

Mendocino CA 95468

Landholding Agency: Air Force

Property Number: 18200820021

Status: Excess

Directions: 201, 202, 203, 206, 215, 216, 217, 218

Reasons: Extensive deterioration, Secured Area

7 Bldgs.

Pt. Arena AF Station

Mendocino CA 95468

Landholding Agency: Air Force

Property Number: 18200820022

Status: Excess

Directions: 220, 221, 222, 223, 225, 226, 228

Reasons: Secured Area, Extensive deterioration

Bldg. 408

Pt. Arena AF Station

Mendocino CA 95468

Landholding Agency: Air Force

Property Number: 18200820023

Status: Excess

Reasons: Extensive deterioration, Secured Area

Bldgs. 601 thru 610

Pt. Arena AF Station

Mendocino CA 95468

Landholding Agency: Air Force

Property Number: 18200820024

Status: Excess

Reasons: Extensive deterioration, Secured Area

Bldgs. 611-619

Pt. Arena AF Station

Mendocino CA 95468

Landholding Agency: Air Force

Property Number: 1820082002500

Status: Excess

Reasons: Secured Area, Extensive deterioration.

Bldgs. 620 thru 627

Pt. Arena AF Station

Mendocino CA 95468

Landholding Agency: Air Force

Property Number: 18200820026

Status: Excess

Reasons: Extensive deterioration, Secured Area

Bldgs. 654, 655, 690

Pt. Arena AF Station

Mendocino CA 95468

Landholding Agency: Air Force

Property Number: 18200820027

Status: Excess

Reasons: Secured Area, Extensive deterioration

Bldgs. 300, 387

Pt. Arena Comm Annex

Mendocino CA 95468

Landholding Agency: Air Force

Property Number: 18200820029

Status: Excess

Reasons: Extensive deterioration, Secured Area

Bldgs. 700, 707, 796, 797

Pt. Arena Comm Annex

Mendocino CA 95468

Landholding Agency: Air Force

Property Number: 18200820030

Status: Excess

Reasons: Secured Area, Extensive deterioration

Bldgs. 748, 838

Vandenberg AFB

Vandenberg CA 93437

Landholding Agency: Air Force

Property Number: 18200820033

Status: Unutilized

Reasons: Secured Area

Bldgs. 1412, 2422, 3514

Edwards AFB

Kern CA 93524

Landholding Agency: Air Force

Property Number: 18200840001

Status: Unutilized

Reasons: Secured Area, Extensive deterioration

6 Bldgs.

Beale AFB

Beale AFB CA 95903

Landholding Agency: Air Force

Property Number: 18200930001

Status: Unutilized

Directions: 355, 421, 1062, 1088, 1250, 1280

Reasons: Extensive deterioration

7 Bldgs.

Beale AFB

Beale AFB CA 95903

Landholding Agency: Air Force

Property Number: 18200930002

Status: Unutilized

Directions: 2160, 2171, 2340, 2432, 2491, 2560, 5800

Reasons: Extensive deterioration

5 Bldgs.

Edwards AFB

Los Angeles CA 93524

Landholding Agency: Air Force

Property Number: 18200940002

Status: Unutilized

Directions: 50, 5510, 7161, 7163, 7184

Reasons: Secured Area

8 Bldgs.

Vandenberg AFB

Santa Barbara CA 93437

Landholding Agency: Air Force

Property Number: 18200940003

Status: Unutilized

Directions: 182, 575, 578, 580, 582, 583, 584, 589

Reasons: Secured Area, Extensive deterioration

4 Bldgs.

Vandenberg AFB

Santa Barbara CA 93437

Landholding Agency: Air Force

Property Number: 18200940004

Status: Unutilized

Directions: 590, 596, 598, 599

Reasons: Secured Area, Extensive deterioration

5 Bldgs.

Vandenberg AFB

Santa Barbara CA 93437

Landholding Agency: Air Force

Property Number: 18200940005

Status: Unutilized

Directions: 708, 742, 955, 1836, 13403

Reasons: Extensive deterioration, Secured Area

14 Bldgs.

Beale AFB

Beale AFB CA 95903

Landholding Agency: Air Force

Property Number: 18200940006

Status: Unutilized

Directions: 4158, 3936, 3942, 3947, 4314, 4318, 4256, 4120, 4103, 3871, 3873, 3887, 3919, 4133

Reasons: Extensive deterioration

Bldgs. 4320, 800

Beale AFB

Beale AFB CA 95903

Landholding Agency: Air Force

Property Number: 18200940007

Status: Unutilized

Reasons: Extensive deterioration

4 Bldgs.

Beale AFB

Beale AFB CA 95903

Landholding Agency: Air Force

Property Number: 18200940008

Status: Unutilized

Directions: 4136, 5223, 5228, 5278

Reasons: Extensive deterioration.

4 Bldgs.

Vandenberg AFB

Vandenberg CA 93437

Landholding Agency: Air Force

Property Number: 18201010002

Status: Unutilized

Directions: 1892, 9340, 13400, 21110

Reasons: Secured Area

Bldgs. 1154, 2459, 5114

Beale AFB

Beale CA 95903

Landholding Agency: Air Force

Property Number: 18201010004

Status: Unutilized

Reasons: Extensive deterioration

Bldgs. 591, 970, 1565

Vandenberg AFB

Vandenberg CA 93437

Landholding Agency: Air Force

Property Number: 18201020005

Status: Unutilized

Reasons: Secured Area, Extensive deterioration

Bldg. 1213

Beale AFB

Beale CA 95903

Landholding Agency: Air Force

Property Number: 18201030002

Status: Unutilized

Reasons: Extensive deterioration

Bldg. 7087

Edwards AFB

Kern CA 93524

Landholding Agency: Air Force

Property Number: 18201030003

Status: Unutilized

Reasons: Secured Area

APN-#109-20-45

1390 Limantour Dr.

Point Reyes Station CA 94956

Landholding Agency: Interior

Property Number: 61201020001

Status: Unutilized

Reasons: Extensive deterioration

Bldg. 2533

Marine Corps Base

Camp Pendleton CA 92055

Landholding Agency: Navy

Property Number: 77200520005

Status: Excess

Reasons: Secured Area, Extensive deterioration

Bldg. 13111

Marine Corps Base

Camp Pendleton CA 92055

Landholding Agency: Navy

Property Number: 77200520006

Status: Excess

Reasons: Extensive deterioration, Secured Area

Bldgs. 53325, 53326

Marine Corps Base

Camp Pendleton CA 92055

Landholding Agency: Navy

Property Number: 77200520007

Status: Excess

Reasons: Secured Area, Extensive deterioration

5 Bldgs.

Marine Corps Base

53421, 53424 thru 53427

Camp Pendleton CA 92055

Landholding Agency: Navy

Property Number: 77200520008

Status: Excess

Reasons: Secured Area, Extensive deterioration

Bldgs. 61311, 61313, 61314

Marine Corps Base

Camp Pendleton CA 92055

Landholding Agency: Navy

Property Number: 77200520009

Status: Excess

Reasons: Secured Area, Extensive deterioration

Bldgs. 61320-61324, 61326

Marine Corps Base

Camp Pendleton CA 92055

Landholding Agency: Navy

Property Number: 77200520010

Status: Excess

Reasons: Secured Area, Extensive deterioration

Bldgs. 62711 thru 62717

Marine Corps Base

Camp Pendleton CA 92055

Landholding Agency: Navy

Property Number: 77200520011

Status: Excess

Reasons: Secured Area, Extensive deterioration

Bldgs. 4

Naval Submarine Base

Point Loma CA

Landholding Agency: Navy

Property Number: 77200520014

Status: Unutilized

Reasons: Extensive deterioration

Bldgs. 8915, 8931

Naval Weapons Station

Seal Beach CA 90740

Landholding Agency: Navy

Property Number: 77200530004

Status: Excess

Reasons: Extensive deterioration

Bldgs. 11, 112

Naval Weapons Station

Seal Beach CA 90740

Landholding Agency: Navy

Property Number: 77200530005

Status: Unutilized

Reasons: Extensive deterioration

Bldg. 805

Naval Weapons Station

Seal Beach CA 90740

Landholding Agency: Navy

Property Number: 77200530006

Status: Unutilized

Reasons: Extensive deterioration

Bldgs. 810 thru 823

Naval Weapons Station

Seal Beach CA 90740

Landholding Agency: Navy

Property Number: 77200530007

Status: Unutilized

Reasons: Extensive deterioration

Bldgs. 851, 859, 864

Naval Weapons Station

Seal Beach CA 90740

Landholding Agency: Navy

Property Number: 77200530008

Status: Unutilized

Reasons: Extensive deterioration

Bldg. 1146

Naval Base

Port Hueneme Co: Ventura CA 93042

Landholding Agency: Navy

Property Number: 77200530009

Status: Unutilized

Reasons: Extensive deterioration

Bldgs. 1370, 1371, 1372

Naval Base

Port Hueneme Co: Ventura CA 93042

Landholding Agency: Navy

Property Number: 77200530011

Status: Unutilized

Reasons: Extensive deterioration

Bldg. 115

Naval Base

San Diego CA

Landholding Agency: Navy

Property Number: 77200530012

Status: Excess

Reasons: Extensive deterioration

Bldg. 1674

Marine Corps Base

Camp Pendleton CA 92055

Landholding Agency: Navy

Property Number: 77200530027

Status: Excess

Reasons: Extensive deterioration, Secured Area

Bldgs. 2636, 2651, 2658

Marine Corps Base

Camp Pendleton CA 92055

Landholding Agency: Navy

Property Number: 77200530028

Status: Excess

Reasons: Secured Area, Extensive deterioration

4 Bldgs.

Marine Corps Base

Camp Pendleton CA 92055

Landholding Agency: Navy

Property Number: 77200530029

Status: Excess

Directions: 26053, 26054, 26056, 26059

Reasons: Secured Area, Extensive deterioration

Bldgs. 53333, 53334

Marine Corps Base

Camp Pendleton CA 92055

Landholding Agency: Navy

Property Number: 77200530030

Status: Excess

Reasons: Secured Area, Extensive deterioration

Bldgs. 53507, 53569

Marine Corps Base

Camp Pendleton CA 92055

Landholding Agency: Navy

Property Number: 77200530031

Status: Excess

Reasons: Secured Area, Extensive deterioration

Bldg. 170111

Marine Corps Base

Camp Pendleton CA 92055

Landholding Agency: Navy

Property Number: 77200530032

Status: Excess

Reasons: Secured Area, Extensive deterioration

Bldg. PM4-3

Naval Base

Oxnard Co: Ventura CA 93042

Landholding Agency: Navy

Property Number: 77200530033

Status: Unutilized

Reasons: Extensive deterioration

Bldg. 1781

Marine Corps Base

Camp Pendleton CA 92055

Landholding Agency: Navy

Property Number: 77200540001

Status: Excess

Reasons: Extensive deterioration, Secured Area

Bldgs. 398, 399, 404

Naval Base Point Loma

San Diego CA

Landholding Agency: Navy

Property Number: 77200540003

Status: Unutilized

Reasons: Extensive deterioration

Bldgs. 388, 389, 390, 391

Naval Base Point Loma

San Diego CA

Landholding Agency: Navy

Property Number: 77200540004

Status: Unutilized

Reasons: Extensive deterioration

Bldg. 16

Naval Submarine Base

San Diego CA

Landholding Agency: Navy

Property Number: 77200540017

Status: Unutilized

Reasons: Extensive deterioration, Secured Area, Within 2,000 ft. of flammable or explosive material

Bldg. 325

Naval Base

Port Hueneme Co: Ventura CA 93043

Landholding Agency: Navy

Property Number: 77200610001

Status: Unutilized

Reasons: Within airport runway clear zone, Secured Area, Extensive deterioration

Bldgs. 1647, 1648

Marine Corps Base

Camp Pendleton CA 92055

Landholding Agency: Navy

Property Number: 77200610010

Status: Excess

Reasons: Extensive deterioration

Bldg. 1713

Marine Corps Base

Camp Pendleton CA 92055

Landholding Agency: Navy

Property Number: 77200610011

Status: Excess

Reasons: Extensive deterioration

Bldg. 220189

Marine Corps Base

Camp Pendleton CA 92055

Landholding Agency: Navy

Property Number: 77200610014

Status: Excess

Reasons: Extensive deterioration

Bldg. 2295

Marine Corps Base

Camp Pendleton CA 92055

Landholding Agency: Navy

Property Number: 77200610015

Status: Excess

Reasons: Extensive deterioration

Bldgs. 22115, 22116, 22117

Marine Corps Base

Camp Pendleton CA 92055

Landholding Agency: Navy

Property Number: 77200610016

Status: Excess

Reasons: Extensive deterioration

Bldg. 143

Naval Air Station

Lemoore CA

Landholding Agency: Navy

Property Number: 77200610017

Status: Excess

Reasons: Extensive deterioration

Bldgs. 213, 243, 273

Naval Air Station

Lemoore CA

Landholding Agency: Navy

Property Number: 77200610018

Status: Excess

Reasons: Extensive deterioration

Bldg. 303

Naval Air Station

Lemoore CA

Landholding Agency: Navy

Property Number: 77200610019

Status: Excess

Reasons: Extensive deterioration

Bldg. 471

Naval Air Station

Lemoore CA

Landholding Agency: Navy

Property Number: 77200610020

Status: Excess

Reasons: Extensive deterioration

Bldgs. 979, 928, 930

Naval Air Station

Lemoore CA

Landholding Agency: Navy

Property Number: 77200610021

Status: Excess

Reasons: Extensive deterioration

Bldgs. 999, 1000

Naval Air Station

Lemoore CA

Landholding Agency: Navy

Property Number: 77200610022

Status: Excess

Reasons: Extensive deterioration

Bldgs. 305, 353

Naval Base Point Loma

San Diego CA

Landholding Agency: Navy

Property Number: 77200610023

Status: Unutilized

Reasons: Extensive deterioration

Bldgs. 358, 359, 360, 361

Naval Base Point Loma

San Diego CA

Landholding Agency: Navy

Property Number: 77200610024

Status: Unutilized

Reasons: Extensive deterioration

Bldg. 581

Naval Base Point Loma

San Diego CA

Landholding Agency: Navy

Property Number: 77200610026

Status: Unutilized

Reasons: Extensive deterioration

Bldgs. A25, A27

Naval Base Point Loma

San Diego CA

Landholding Agency: Navy

Property Number: 77200610027

Status: Unutilized

Reasons: Extensive deterioration

Bldgs. 31926, 31927, 31928

Marine Corps Base

Camp Pendleton CA 92055

Landholding Agency: Navy

Property Number: 77200610058

Status: Excess

Reasons: Extensive deterioration

Bldg. 41326

Marine Corps Base

Camp Pendleton CA 92055

Landholding Agency: Navy

Property Number: 77200610059

Status: Excess

Reasons: Extensive deterioration

Bldg. 41816

Marine Corps Base

Camp Pendleton CA 92055

Landholding Agency: Navy

Property Number: 77200610060

Status: Excess

Reasons: Extensive deterioration

Bldgs. 1468, 1469

Naval Base

Port Hueneme Co: Ventura CA 93043

Landholding Agency: Navy

Property Number: 77200630002

Status: Unutilized

Reasons: Secured Area

Bldg. 30869

Naval Air Weapons Station

China Lake CA 93555

Landholding Agency: Navy

Property Number: 77200630005

Status: Excess

Reasons: Secured Area, Extensive deterioration

Bldgs. 2-8, 3-10

Naval Base

Port Mugu Co: Ventura CA 93043

Landholding Agency: Navy

Property Number: 77200630009

Status: Unutilized

Reasons: Secured Area, Extensive deterioration

Bldgs. 6-11, 6-12, 6-819

Naval Base

Port Mugu Co: Ventura CA 93043

Landholding Agency: Navy

Property Number: 77200630010

Status: Unutilized

Reasons: Secured Area, Extensive deterioration

Bldg. 85

Naval Base

Port Mugu Co: Ventura CA 93043

Landholding Agency: Navy

Property Number: 77200630011

Status: Unutilized

Reasons: Extensive deterioration, Secured Area

Bldgs. 120, 123

Naval Base

Port Mugu Co: Ventura CA 93043

Landholding Agency: Navy

Property Number: 77200630012

Status: Unutilized

Reasons: Extensive deterioration, Secured Area

Bldg. 724

Naval Base

Port Mugu Co: Ventura CA 93043

Landholding Agency: Navy

Property Number: 77200630013

Status: Unutilized

Reasons: Extensive deterioration, Secured Area

Bldg. 764

Naval Base

Port Mugu Co: Ventura CA 93043

Landholding Agency: Navy

Property Number: 77200630014

Status: Unutilized

Reasons: Secured Area

Bldg. 115

Naval Base

Port Hueneme Co: Ventura CA 93042

Landholding Agency: Navy

Property Number: 77200630015

Status: Unutilized

Reasons: Secured Area, Extensive deterioration

Bldg. 323

Naval Base

Port Hueneme Co: Ventura CA 93042

Landholding Agency: Navy

Property Number: 77200630016

Status: Unutilized

Reasons: Extensive deterioration, Secured Area

Bldg. 488

Naval Base

Port Hueneme Co: Ventura CA 93042

Landholding Agency: Navy

Property Number: 77200630017

Status: Unutilized

Reasons: Extensive deterioration, Secured Area

Bldg. 842

Naval Base

Port Hueneme Co: Ventura CA 93042

Landholding Agency: Navy

Property Number: 77200630018

Status: Unutilized

Reasons: Extensive deterioration, Secured Area

Bldg. 927

Naval Base

Port Hueneme Co: Ventura CA 93042

Landholding Agency: Navy

Property Number: 77200630019

Status: Unutilized

Reasons: Secured Area, Extensive deterioration

Bldg. 1150

Naval Base

Port Hueneme Co: Ventura CA 93042

Landholding Agency: Navy

Property Number: 77200630020

Status: Unutilized

Reasons: Secured Area, Extensive deterioration

Bldg. 1361

Naval Base

Port Hueneme Co: Ventura CA 93042

Landholding Agency: Navy

Property Number: 77200630021

Status: Unutilized

Reasons: Extensive deterioration, Secured Area

Bldg. PH546

Naval Base

Port Hueneme Co: Ventura CA 93043

Landholding Agency: Navy

Property Number: 77200640027

Status: Unutilized

Reasons: Secured Area, Extensive deterioration

Bldg. PH425

Naval Base

Port Hueneme Co: Ventura CA 93043

Landholding Agency: Navy

Property Number: 77200710001

Status: Unutilized

Reasons: Secured Area, Extensive deterioration

Bldg. PM 134

Naval Base

Point Mugu Co: Ventura CA 93043

Landholding Agency: Navy

Property Number: 77200710023

Status: Unutilized

Reasons: Secured Area, Extensive deterioration

Bldgs. PH837, PH1372

Naval Base

Port Hueneme Co: Ventura CA 93043

Landholding Agency: Navy

Property Number: 77200710024

Status: Unutilized

Reasons: Secured Area, Extensive deterioration

Bldg. 523107

Marine Corps Base

Camp Pendleton CA 92055

Landholding Agency: Navy

Property Number: 77200710025

Status: Excess

Reasons: Extensive deterioration

6 Bldgs.

Marine Corps Base

Camp Pendleton CA 92055

Landholding Agency: Navy

Property Number: 77200710026

Status: Excess

Directions: 523112, 523113, 523114, 523115, 523116, 523117

Reasons: Extensive deterioration

6 Bldgs.

Marine Corps Base

Camp Pendleton CA 92055

Landholding Agency: Navy

Property Number: 77200710027

Status: Excess

Directions: 523122, 523123, 523124, 523125, 523126, 523127

Reasons: Extensive deterioration

6 Bldgs.

Marine Corps Base

Camp Pendleton CA 92055

Landholding Agency: Navy

Property Number: 77200710028

Status: Excess

Directions: 523132, 523133, 523134, 523135, 523136, 523137

Reasons: Extensive deterioration

6 Bldgs.

Marine Corps Base

Camp Pendleton CA 92055

Landholding Agency: Navy

Property Number: 77200710029

Status: Excess

Directions: 523142, 523143, 523144, 523145, 523146, 523147

Reasons: Extensive deterioration

Bldgs. 523156, 523157

Marine Corps Base

Camp Pendleton CA 92055

Landholding Agency: Navy

Property Number: 77200710030

Status: Excess

Reasons: Extensive deterioration

Bldg. 30726

Naval Air Weapons

China Lake CA 93555

Landholding Agency: Navy

Property Number: 77200710047

Status: Excess

Reasons: Secured Area

Bldgs. PH284, PH339

Naval Base

Port Hueneme Co: Ventura CA 93043

Landholding Agency: Navy

Property Number: 77200720001

Status: Unutilized

Reasons: Secured Area, Extensive deterioration

Bldgs. PH805, PH1179

Naval Base

Port Hueneme Co: Ventura CA 93043

Landholding Agency: Navy

Property Number: 77200720002

Status: Unutilized

Reasons: Secured Area, Extensive deterioration

Bldgs. PH1207, PH1264, PH1288

Naval Base

Port Hueneme Co: Ventura CA 93043

Landholding Agency: Navy

Property Number: 77200720003

Status: Unutilized

Reasons: Secured Area, Extensive deterioration

Bldgs. PM 3-53, PM129, PM402

Naval Base

Port Mugu Co: Ventura CA 93043

Landholding Agency: Navy

Property Number: 77200720004

Status: Unutilized

Reasons: Secured Area, Extensive deterioration

Bldg. LP908

Naval Base

Laguna Peak

Port Mugu Co: Ventura CA 93043

Landholding Agency: Navy

Property Number: 77200720005

Status: Unutilized

Reasons: Secured Area, Extensive deterioration

Bldg. PM790

Naval Base

Oxnard CA 93043

Landholding Agency: Navy

Property Number: 77200720006

Status: Unutilized

Reasons: Extensive deterioration, Secured Area

Bldg. 53402

Marine Corps Base

Camp Pendleton CA 92055

Landholding Agency: Navy

Property Number: 77200720007

Status: Excess

Reasons: Secured Area, Extensive deterioration

Bldg. 307

Naval Base

San Diego CA

Landholding Agency: Navy

Property Number: 77200720009

Status: Excess

Reasons: Secured Area

Bldg. 3135

Naval Base

San Diego CA

Landholding Agency: Navy

Property Number: 77200720010

Status: Excess

Reasons: Secured Area

Bldgs. 30727, 31409

Naval Air Weapons Station

China Lake CA 93555

Landholding Agency: Navy

Property Number: 77200720011

Status: Excess

Reasons: Secured Area

Bldgs. 60142, 60158

Naval Base Coronado

San Clemente Island CA

Landholding Agency: Navy

Property Number: 77200720012

Status: Unutilized

Reasons: Extensive deterioration, Not accessible by road

Bldgs. 60160, 60162, 60164

Naval Base Coronado

San Clemente Island CA

Landholding Agency: Navy

Property Number: 77200720013

Status: Unutilized

Reasons: Extensive deterioration

Bldgs. 60203, 60210, 60211

Naval Base Coronado

San Clemente Island CA

Landholding Agency: Navy

Property Number: 77200720014

Status: Unutilized

Reasons: Extensive deterioration

Bldgs. 60214, 60215

Naval Base Coronado

San Clemente Island CA

Landholding Agency: Navy

Property Number: 77200720015

Status: Unutilized

Reasons: Extensive deterioration

Bldgs. 60227, 60243, 60250

Naval Base Coronado

San Clemente Island CA

Landholding Agency: Navy

Property Number: 77200720016

Status: Unutilized

Reasons: Extensive deterioration

Bldg. 60313

Naval Base Coronado

San Clemente Island CA

Landholding Agency: Navy

Property Number: 77200720017

Status: Unutilized

Reasons: Extensive deterioration

Bldg. 404

Naval Air Station

North Island CA

Landholding Agency: Navy

Property Number: 77200720032

Status: Unutilized

Reasons: Extensive deterioration

Bldg. 3267

Naval Base

San Diego CA

Landholding Agency: Navy

Property Number: 77200720039

Status: Unutilized

Reasons: Secured Area

Bldgs. 11090, 98033

Naval Air Weapons

China Lake CA 93555

Landholding Agency: Navy

Property Number: 77200720054

Status: Excess

Reasons: Secured Area, Extensive deterioration

Bldgs. 41314, 41362

Marine Corps Base

Camp Pendleton CA 92055

Landholding Agency: Navy

Property Number: 77200720055

Status: Excess

Reasons: Extensive deterioration

Bldgs. 192, 193, 410

Naval Base

San Diego CA

Landholding Agency: Navy

Property Number: 77200720063

Status: Excess

Reasons: Secured Area

Bldg. 415

Naval Base

San Diego CA

Landholding Agency: Navy

Property Number: 77200730013

Status: Unutilized

Reasons: Secured Area

Bldgs. 3363, 3364

Naval Base

San Diego CA

Landholding Agency: Navy

Property Number: 77200730014

Status: Unutilized

Reasons: Secured Area

4 Bldgs.

Naval Base

3185D, 3222, 3251, 3309

San Diego CA

Landholding Agency: Navy

Property Number: 77200730015

Status: Unutilized

Reasons: Secured Area

Portion/Bldg. T17

Naval Base Point Loma

San Diego CA

Landholding Agency: Navy

Property Number: 77200730016

Status: Underutilized

Reasons: Secured Area

Bldg. 297

Naval Base

San Diego CA

Landholding Agency: Navy

Property Number: 77200730017

Status: Unutilized

Reasons: Secured Area

Bldgs. 13, 87

Naval Air Station

Coronado Co: San Diego CA

Landholding Agency: Navy

Property Number: 77200730022

Status: Excess

Reasons: Extensive deterioration, Secured Area

Bldg. 243

Naval Air Station

Coronado Co: San Diego CA

Landholding Agency: Navy

Property Number: 77200730023

Status: Excess

Reasons: Extensive deterioration, Secured Area

Bldg. 381

Naval Air Station

Coronado Co: San Diego CA

Landholding Agency: Navy

Property Number: 77200730024

Status: Excess

Reasons: Secured Area

4 Bldgs.

Naval Air Station

493, 663, 682, 784

Coronado Co: San Diego CA

Landholding Agency: Navy

Property Number: 77200730025

Status: Excess

Reasons: Secured Area, Extensive deterioration

Bldg. 809

Naval Air Station

Coronado Co: San Diego CA

Landholding Agency: Navy

Property Number: 77200730026

Status: Excess

Reasons: Secured Area

Bldg. 983

Naval Air Station

Coronado Co: San Diego CA

Landholding Agency: Navy

Property Number: 77200730027

Status: Excess

Reasons: Secured Area

Bldg. 1459

Naval Air Station

Coronado Co: San Diego CA

Landholding Agency: Navy

Property Number: 77200730028

Status: Excess

Reasons: Extensive deterioration, Secured Area

Bldg. 334

Naval Base

San Diego CA

Landholding Agency: Navy

Property Number: 77200730029

Status: Excess

Reasons: Secured Area

Bldgs. 124, 148

Naval Air Station

North Island CA

Landholding Agency: Navy

Property Number: 77200740002

Status: Excess

Reasons: Secured Area

Bldgs. 314, 341, 636

Naval Air Station

North Island CA

Landholding Agency: Navy

Property Number: 77200740003

Status: Excess

Reasons: Secured Area

Bldgs. 710, 802, 826

Naval Air Station

North Island CA

Landholding Agency: Navy

Property Number: 77200740004

Status: Excess

Reasons: Secured Area

Bldgs. 60139, 60180

Naval Air Station

San Clemente CA

Landholding Agency: Navy

Property Number: 77200740005

Status: Excess

Reasons: Secured Area

Bldgs. 41313, 41314

Marine Corps Base

Camp Pendleton CA 92055

Landholding Agency: Navy

Property Number: 77200740006

Status: Excess

Reasons: Secured Area, Extensive deterioration

4 Bldgs.

Marine Corps Base

41359, 41362, 41365, 41366

Camp Pendleton CA 92055

Landholding Agency: Navy

Property Number: 77200740007

States: Excess

Reasons: Secured Area, Extensive deterioration

Bldg. 43976

Marine Corps Base

Camp Pendleton CA 92055

Landholding Agency: Navy

Property Number: 77200740008

States: Excess

Reasons: Extensive deterioration, Secured Area

Bldgs. 53440, 53831

Marine Corps Base

Camp Pendleton CA 92055

Landholding Agency: Navy

Property Number: 77200740009

States: Excess

Reasons: Secured Area, Extensive deterioration

Bldg. 410365

Marine Corps Base

Camp Pendleton CA 92055

Landholding Agency: Navy

Property Number: 77200740010

States: Excess

Reasons: Extensive deterioration, Secured Area

Bldg. 259

Naval Air Station

North Island CA

Landholding Agency: Navy

Property Number: 77200740015

States: Excess

Reasons: Secured Area, Extensive deterioration

Bldg. 41356

Marine Corps Base

Camp Pendleton CA 92055

Landholding Agency: Navy

Property Number: 77200740017

States: Excess

Reasons: Extensive deterioration, Secured Area

Bldg. 84

Naval Base

San Diego CA

Landholding Agency: Navy

Property Number: 77200740018

States: Excess

Reasons: Secured Area

4 Bldgs.

Marine Corps Base

41312, 53426, 53427, 53430

Camp Pendleton CA 92055

Landholding Agency: Navy

Property Number: 77200810008

States: Excess

Reasons: Secured Area, Extensive deterioration

Bldgs. 2537, 2538

Marine Corps Base

Camp Pendleton CA 92055

Landholding Agency: Navy

Property Number: 77200810009

States: Excess

Reasons: Extensive deterioration

Bldgs. 43286, 43287

Marine Corps Base

Camp Pendleton CA 92055

Landholding Agency: Navy

Property Number: 77200810010

States: Excess

Reasons: Extensive deterioration

Bldg. 33007

Naval Air Weapons Station

China Lake CA

Landholding Agency: Navy

Property Number: 77200810011

States: Excess

Reasons: Secured Area, Within 2000 ft. of flammable or explosive material

Bldgs. 22176, 62507, 410363

Marine Corps Base

Camp Pendleton CA

Landholding Agency: Navy

Property Number: 77200810021

States: Excess

Reasons: Extensive deterioration, Secured Area

Bldgs. 25261, 41342, 41344

Marine Corps Base

Camp Pendleton CA 92055

Landholding Agency: Navy

Property Number: 77200810026

States: Excess

Reasons: Extensive deterioration, Secured Area

Bldg. 105

Naval Base

Point Loma Co: San Diego CA

Landholding Agency: Navy

Property Number: 77200820005

States: Unutilized

Reasons: Extensive deterioration, Secured Area

Bldg. PH1230

Naval Base

Port Hueneme CA 93043

Landholding Agency: Navy

Property Number: 77200820021

States: Unutilized

Reasons: Extensive deterioration

Bldgs. 17, 37, 130

Naval Base

San Diego CA 92136

Landholding Agency: Navy

Property Number: 77200820023

Status: Excess

Reasons: Secured Area

Bldgs. 3053, 3328

Naval Base

San Diego CA 92136

Landholding Agency: Navy

Property Number: 77200820025

Status: Excess

Reasons: Secured Area

Bldgs. 3368, 3370

Naval Base

San Diego CA 92136

Landholding Agency: Navy

Property Number: 77200820026

Status: Excess

Reasons: Secured Area

Bldgs. 3591, 3592

Naval Base

San Diego CA 92136

Landholding Agency: Navy

Property Number: 77200820027

Status: Excess

Reasons: Secured Area

Bldg. 3603

Naval Base

San Diego CA 92136

Landholding Agency: Navy

Property Number: 77200820028

Status: Excess

Reasons: Floodway, Secured Area

Bldg. PH1230

Naval Base

Port Hueneme CA 93043

Landholding Agency: Navy

Property Number: 77200820029

Status: Unutilized

Reasons: Extensive deterioration, Secured Area

Bldg. PM28

Naval Base

Point Mugu CA 93042

Landholding Agency: Navy

Property Number: 77200820030

Status: Unutilized

Reasons: Secured Area, Extensive deterioration

Bldgs. PH5295, PH5297

Naval Base

Oxnard CA 93042

Landholding Agency: Navy

Property Number: 77200820031

Status: Unutilized

Reasons: Secured Area, Extensive deterioration

4 Bldgs.

Naval Base

Oxnard CA 93042

Landholding Agency: Navy

Property Number: 77200820032

Status: Unutilized

Directions: PH5303, PH5315, PH5318, PH5319

Reasons: Secured Area, Extensive deterioration

Bldgs. PH5323, PH5329

Naval Base

Oxnard CA 93042

Landholding Agency: Navy

Property Number: 77200820033

Status: Unutilized

Reasons: Extensive deterioration, Secured Area

Bldgs. 60180, 60139

San Clemente Island

Naval Base

Coronado CA

Landholding Agency: Navy

Property Number: 77200830001

Status: Excess

Reasons: Secured Area

Bldg. 148

Naval Amphibious Base

Coronado CA

Landholding Agency: Navy

Property Number: 77200830002

Status: Excess

Reasons: Secured Area

Bldgs. 13, 87, 124, 243

Naval Air Station

North Island CA

Landholding Agency: Navy

Property Number: 77200830003

Status: Excess

Reasons: Secured Area

5 Bldgs.

Naval Air Station

307, 311, 314, 341, 381

North Island CA

Landholding Agency: Navy

Property Number: 77200830004

Status: Excess

Reasons: Secured Area

Bldgs. 493

Naval Air Station

North Island CA

Landholding Agency: Navy

Property Number: 77200830005

Status: Excess

Reasons: Secured Area

Bldgs. 636, 663, 682

Naval Air Station

North Island CA

Landholding Agency: Navy

Property Number: 77200830006

Status: Excess

Reasons: Secured Area

Bldgs. 710, 784

Naval Air Station

North Island CA

Landholding Agency: Navy

Property Number: 77200830007

Status: Excess

Reasons: Secured Area

Bldgs. 802, 809, 826

Naval Air Station

North Island CA

Landholding Agency: Navy

Property Number: 77200830008

Status: Excess

Reasons: Secured Area

Bldgs. 983, 1459

Naval Air Station

North Island CA

Landholding Agency: Navy

Property Number: 77200830009

Status: Excess

Reasons: Secured Area

Bldg. 33005

Naval Air Weapons Station

China Lake CA 93555

Landholding Agency: Navy

Property Number: 77200830011

Status: Excess

Reasons: Extensive deterioration, Secured Area, Within 2000 ft. of flammable or explosive material

Bldgs. 2, 10, 59

Naval Base

Point Loma CA

Landholding Agency: Navy

Property Number: 77200830012

Status: Unutilized

Reasons: Secured Area

Bldgs. 25152, 41321, 41406

Marine Corps Base

Camp Pendleton CA 92055

Landholding Agency: Navy

Property Number: 77200830022

Status: Excess

Reasons: Secured Area, Extensive deterioration

Bldg. 1391

Marine Corps Base

Camp Pendleton CA 92055

Landholding Agency: Navy

Property Number: 77200830025

Status: Excess

Reasons: Extensive deterioration

Bldgs. 1211, 1213, 1214, 1216

Marine Corps Base

Camp Pendleton CA 92055

Landholding Agency: Navy

Property Number: 77200830026

Status: Excess

Reasons: Extensive deterioration

Bldgs. 52654, 52655

Marine Corps Base

Camp Pendleton CA 92055

Landholding Agency: Navy

Property Number: 77200830027

Status: Excess

Reasons: Extensive deterioration

Bldgs. 453, 454, 508, 509

Naval Air Station

Lemoore CA

Landholding Agency: Navy

Property Number: 77200840003

Status: Unutilized

Reasons: Extensive deterioration, Within 2000 ft. of flammable or explosive material, Secured Area

Bldgs. 950, 952, 994

Naval Air Station

Lemoore CA

Landholding Agency: Navy

Property Number: 77200840004

Status: Unutilized

Reasons: Secured Area

4 Bldgs.

Marine Corps Base

14113, 14114, 14126, 21401

Camp Pendleton CA

Landholding Agency: Navy

Property Number: 77200840010

Status: Excess

Reasons: Extensive deterioration, Secured Area

4 Bldgs.

Marine Corps Base

Camp Pendleton CA 92055

Landholding Agency: Navy

Property Number: 77200910001

Status: Excess

Directions: 41350, 51916T, 62357T, 62367

Reasons: Secured Area, Extensive deterioration

6 Bldgs.

Naval Air Station

North Island CA

Landholding Agency: Navy

Property Number: 77200910002

Status: Excess

Directions: C38, C47, C85, C93B, C101, C102

Reasons: Secured Area, Extensive deterioration

Bldgs. 78, 126

Naval Base

San Diego CA

Landholding Agency: Navy

Property Number: 77200910003

Status: Excess

Reasons: Secured Area, Extensive deterioration

Bldg. 3493

Naval Base

San Diego CA

Landholding Agency: Navy

Property Number: 77200920001

Status: Unutilized

Reasons: Secured Area

Bldgs. 2245, 2513T, 5509

Marine Corps Air Station

Miramar CA

Landholding Agency: Navy

Property Number: 77200920002

Status: Excess

Reasons: Secured Area, Extensive deterioration

8 Bldgs.

Marine Corps Base

Camp Pendleton CA 92055

Landholding Agency: Navy

Property Number: 77200920003

Status: Excess

Directions: 1255, 1490, 14121, 14122, 14125, 14127, 62432, 140135

Reasons: Secured Area, Extensive deterioration

4 Bldgs.

Naval Air Weapons Station

China Lake CA 93555

Landholding Agency: Navy

Property Number: 77200920004

Status: Excess

Directions: 02702, 02703, 02704, 02705

Reasons: Secured Area, Extensive deterioration

Bldgs. PM3-4, PM153

Naval Base

Point Mugu Co: Ventura CA 93043

Landholding Agency: Navy

Property Number: 77200920005

Status: Unutilized

Reasons: Secured Area, Extensive deterioration

11 Bldgs.

Naval Base

San Nicholas Island Co: Ventura CA 93043

Landholding Agency: Navy

Property Number: 77200920006

Status: Unutilized

Directions: SNI11, 16, 22, 45, 49, 71, 72, 141, 202, 213, 229

Reasons: Secured Area, Extensive deterioration

Bldgs. PM126, 327, 327-A

Naval Base

Point Mugu Co: Ventura CA 93043

Landholding Agency: Navy

Property Number: 77200920007

Status: Unutilized

Reasons: Secured Area, Extensive deterioration

Bldg. PH 462

Naval Base

Port Hueneme Co: Ventura CA 93043

Landholding Agency: Navy

Property Number: 77200920008

Status: Unutilized

Reasons: Secured Area, Extensive deterioration

14 Bldgs.

Naval Base

Point Mugu Co: Ventura CA 93043

Landholding Agency: Navy

Property Number: 77200920009

Status: Unutilized

Directions: PM4-4, 4-27, 4-30, 6-817, 37, 42, 223, 401, 733, 793, 803, 841, 842, 855

Reasons: Extensive deterioration, Secured Area

Bldgs. PH274, 462, 808, 837

Naval Base

Port Hueneme Co: Ventura CA 93043

Landholding Agency: Navy

Property Number: 77200920010

Status: Unutilized

Reasons: Secured Area, Extensive deterioration

Bldg. 22172

Marine Corps Base

Camp Pendleton CA 92055

Landholding Agency: Navy

Property Number: 77200920020

Status: Excess

Reasons: Secured Area, Extensive deterioration

Bldg. SNI258

Naval Base

San Nicolas Island CA 93043

Landholding Agency: Navy

Property Number: 77200920021

Status: Unutilized

Reasons: Extensive deterioration, Secured Area

6 Bldgs.

Naval Base

Point Mugu CA 93042

Landholding Agency: Navy

Property Number: 77200920022

Status: Unutilized

Directions: PM1823A&B, 1825A&B, 1827A&B

Reasons: Secured Area

9 Bldgs.

Naval Base

Point Mugu CA 93042

Landholding Agency: Navy

Property Number: 77200920023

Status: Unutilized

Directions: PM1936, 1937, 1938, 1939, 1959, 1961, 1963, 1965, 1967

Reasons: Secured Area

Bldgs. 22172, 62432

Marine Corps Base

Camp Pendleton CA 92055

Landholding Agency: Navy

Property Number: 77200920027

Status: Excess

Reasons: Secured Area, Extensive deterioration

Bldg. 14123

Marine Corps Base

Camp Pendleton CA 92055

Landholding Agency: Navy

Property Number: 77200920031

Status: Excess

Reasons: Secured Area, Extensive deterioration

Bldg. 3302

Naval Base

San Diego CA

Landholding Agency: Navy

Property Number: 77200920032

Status: Unutilized

Reasons: Secured Area

Bldg. 1680

Naval Base Coronado

Warner Springs CA

Landholding Agency: Navy

Property Number: 77200920033

Status: Excess

Reasons: Secured Area, Extensive deterioration

Bldg. PH-11

Naval Base

Port Hueneme CA 93043

Landholding Agency: Navy

Property Number: 77200920034

Status: Unutilized

Reasons: Secured Area, Extensive deterioration

Bldg. 01474

Naval Air Weapons

China Lake CA 93555

Landholding Agency: Navy

Property Number: 77200930001

Status: Excess

Reasons: Secured Area

Bldgs. 2246, 2247, 5632T

Marine Corps Air Station

Miramar CA

Landholding Agency: Navy

Property Number: 77200930002

Status: Excess

Reasons: Extensive deterioration, Secured Area

Bldg. 88

Naval Base

San Diego CA

Landholding Agency: Navy

Property Number: 77200930014

Status: Unutilized

Reasons: Extensive deterioration, Secured Area

Structure 363

Naval Base

San Diego CA

Landholding Agency: Navy

Property Number: 77200940001

Status: Unutilized

Reasons: Secured Area, Extensive deterioration

Bldg. 43257

Marine Corps Base

Camp Pendleton CA 92055

Landholding Agency: Navy

Property Number: 77200940005

Status: Excess

Reasons: Extensive deterioration, Secured Area

6 Bldgs.

Marine Corps Air Station

Miramar CA

Landholding Agency: Navy

Property Number: 77200940009

Status: Excess

Directions: 9618, 9278T, 2003T, 1271T, 1272T, 2740T

Reasons: Extensive deterioration, Secured Area

Bldg. 01325

Naval Air Weapons Station

China Lake CA 93555

Landholding Agency: Navy

Property Number: 77200940010

Status: Unutilized

Reasons: Extensive deterioration, Secured Area

7 Bldgs.

Marine Corps Air Station

Miramar CA

Landholding Agency: Navy

Property Number: 77200940012

Status: Excess

Directions: 9022, 9272, 9539, 9540, 9604, 9623, 9624

Reasons: Secured Area, Extensive deterioration

Bldgs. PM4-32, PM5-24

Naval Base

Point Mugu CA 93042

Landholding Agency: Navy

Property Number: 77201010001

Status: Unutilized

Reasons: Floodway, Secured Area

7 Bldgs.

Naval Base

Point Mugu CA 93042

Landholding Agency: Navy

Property Number: 77201010002

Status: Unutilized

Directions: PM71, 73, 76, 77, 160, 350, 353, 384

Reasons: Floodway, Secured Area

9 Bldgs.

Naval Base

Point Mugu CA 93042

Landholding Agency: Navy

Property Number: 77201010003

Status: Unutilized

Directions: PM555, 565, 700, 704, 737, 759, 852, 853, 855

Reasons: Floodway, Secured Area

4 Bldgs.

Naval Base

Point Mugu CA 93042

Landholding Agency: Navy

Property Number: 77201010004

Status: Unutilized

Directions: 240CA, 244CA, 246CA, 248CA

Reasons: Floodway, Secured Area, Extensive deterioration

8 Bldgs.

Naval Base

Port Hueneme CA 93043

Landholding Agency: Navy

Property Number: 77201010005

Status: Unutilized

Directions: PH827, 1206, 1207, 1374, 1375, 1376, 1527, 1528

Reasons: Floodway, Secured Area, Extensive deterioration

Bldg. X

Naval Base Coronado

San Diego CA 92135

Landholding Agency: Navy

Property Number: 77201010011

Status: Unutilized

Reasons: Within airport runway clear zone, Secured Area

Bldgs. 425, 494, 1395, 1471

Naval Base

Port Hueneme CA 93043

Landholding Agency: Navy

Property Number: 77201010012

Status: Unutilized

Reasons: Floodway, Secured Area

8 Bldgs.

Naval Base

Port Hueneme CA 93043

Landholding Agency: Navy

Property Number: 77201010013

Status: Unutilized

Directions: 827, 1206, 1207, 1374, 1375, 1376, 1527, 1528

Reasons: Floodway, Secured Area

Bldgs. 1675, 3881

Naval Air Weapons Station

China Lake CA 93555

Landholding Agency: Navy

Property Number: 77201010018

Status: McKinney/Base Closure

Reasons: Extensive deterioration

Bldg. 4

Naval Base Coronado

San Diego CA

Landholding Agency: Navy

Property Number: 77201010019

Status: Unutilized

Reasons: Secured Area

Bldgs. X, 35, 384, 1209

Naval Base Coronado

San Diego CA

Landholding Agency: Navy

Property Number: 77201010020

Status: Underutilized

Reasons: Secured Area

Bldgs. 3550, 3551

Naval Base

San Diego CA

Landholding Agency: Navy

Property Number: 77201020015

Status: Unutilized

Reasons: Secured Area

Bldgs. 3053, 3135, 3591, 3592

Naval Base

San Diego CA

Landholding Agency: Navy

Property Number: 77201020022

Status: Excess

Reasons: Secured Area

16 Bldgs.

Naval Weapons Station

Fallbrook CA 92028

Landholding Agency: Navy

Property Number: 77201030002

Status: Unutilized

Directions: 203, 210, 216, 236, 321, 322, 323, 356, 364, 365, 366, 433, 439, 451, 452, 453

Reasons: Secured Area, Within 2000 ft. of flammable or explosive material, Extensive deterioration

13 Bldgs.

Naval Weapons Station

Seal Beach CA 90740

Landholding Agency: Navy

Property Number: 77201030003

Status: Unutilized

Directions: 60, 61, 64, 70, 74, 75, 238, 242, 243, 410, 423, 424, 522

Reasons: Within 2000 ft. of flammable or explosive material, Secured Area, Extensive deterioration

4 Bldgs.

Naval Air Weapons Station

China Lake CA 93555

Landholding Agency: Navy

Property Number: 77201030004

Status: Excess

Directions: 569, 1109, 1125, 98005

Reasons: Secured Area, Extensive deterioration

Bldg. 6002

Marine Corps Air Station

Miramar CA

Landholding Agency: Navy

Property Number: 77201030005

Status: Excess

Reasons: Secured Area, Extensive deterioration

Bldg. 1609

S.E.R.E. Camp

Naval Base

San Diego CA

Landholding Agency: Navy

Property Number: 77201030006

Status: Underutilized

Reasons: Secured Area

Bldgs. 8006T, 8009T, 21146D

Marine Corps Air Station

Miramar CA

Landholding Agency: Navy

Property Number: 77201030015

Status: Excess

Reasons: Extensive deterioration, Secured Area

5 Bldgs.

Naval Air Station

Lemoore CA

Landholding Agency: Navy

Property Number: 77201030016

Status: Excess

Directions: 15, 16, 221, 279, 838

Reasons: Secured Area

5 Structures

Naval Air Station

Lemoore CA

Landholding Agency: Navy

Property Number: 77201030017

Status: Excess

Directions: 51, 845, 846, 853, 854

Reasons: Secured Area

6 Bldgs.

Marine Corps Air Station

San Diego CA

Landholding Agency: Navy

Property Number: 77201030022

Status: Excess

Directions: 2107, 7101, 8112, 9102, 9109, 9114

Reasons: Secured Area, Extensive deterioration

Colorado

Bldg. 9038

U.S. Air Force Academy

El Paso CO 80840

Landholding Agency: Air Force

Property Number: 18200920004

Status: Unutilized

Reasons: Extensive deterioration

Bldg. 6980

U.S. Air Force Academy

El Paso CO 80840

Landholding Agency: Air Force

Property Number: 18200940009

Status: Unutilized

Reasons: Secured Area

Bldgs. 6966, 6968, 6930, 6932 USAF Academy

El Paso CO 80840

Landholding Agency: Air Force

Property Number: 18201010005

Status: Unutilized

Reasons: Secured Area

Bldg. 1413

Buckley AFB

Aurora CO

Landholding Agency: Air Force Property Number: 18201020006

Status: Unutilized

Reasons: Secured Area, Extensive deterioration

7 Bldgs.

U.S. Air Force Academy

El Paso CO 80840

Landholding Agency: Air Force

Property Number: 18201030004

Status: Unutilized

Directions: 2330, 2331, 2332, 2333, 3190, 9020, 9035

Reasons: Secured Area

District of Columbia

Bldg. 396

Naval Support Facility

Anacostia Annex DC 20373

Landholding Agency: Navy

Property Number: 77200630008

Status: Unutilized

Reasons: Secured Area, Within 2000 ft. of flammable or explosive material

Florida

Bldg. 82

Air Force Range

Avon Park FL 33825

Landholding Agency: Air Force

Property Number: 18200840002

Status: Unutilized

Reasons: Contamination Secured Area

Bldg. 202

Avon Park AF Range

Polk FL 33825

Landholding Agency: Air Force

Property Number: 18200930005

Status: Unutilized

Reasons: Extensive deterioration

Facility 47120

Cape Canaveral AFB

Brevard FL 32925

Landholding Agency: Air Force

Property Number: 18200940010

Status: Unutilized

Reasons: Secured Area

15 Bldgs.

Tyndall AFB

Bay FL 32403

Landholding Agency: Air Force

Property Number: 18201010006

Status: Unutilized

Directions: 129, 131, 138, 153, 156, 419, 743, 745, 1003, 1269, 1354, 1355, 1506, 6063, 6067

Reasons: Secured Area

4 Bldgs.

Cape Canaveral AFS

Brevard FL 32925

Landholding Agency: Air Force

Property Number: 18201010007

Status: Unutilized

Directions: 56621, 56629, 56632, 67901

Reasons: Secured Area

Bldgs. 1622, 60408, and 60537

Cape Canaveral AFS

Brevard FL 32925

Landholding Agency: Air Force

Property Number: 18201020007

Status: Unutilized

Reasons: Secured Area

13 Bldgs.

Tyndall AFB

Bay FL 32403

Landholding Agency: Air Force

Property Number: 18201020008

Status: Excess

Directions: B111, B113, B115, B205, B206, B501, B810, B812, B824, B842, B1027, B1257, and B8402

Reasons: Within 2000 ft. of flammable or explosive material, Secured Area

Bldg. 90023

Hurlburt Field

Hurlburt FL 32544

Landholding Agency: Air Force

Property Number: 18201030005

Status: Unutilized

Reasons: Extensive deterioration, Secured Area

Bldg. 89002

Cape Canaveral AFS

Brevard FL 32920

Landholding Agency: Air Force

Property Number: 18201030006

Status: Unutilized

Reasons: Within 2000 ft. of flammable or explosive material, Secured Area

Bldg. U-150

Naval Air Station

Key West Co: Monroe FL 33040

Landholding Agency: Navy

Property Number: 77200520044

Status: Excess

Reasons: Extensive deterioration, Secured Area

Bldgs. V1221 A

Naval Air Station

Sigsbee Park

Key West Co: Monroe FL 33040

Landholding Agency: Navy

Property Number: 77200530013

Status: Unutilized

Reasons: Extensive deterioration, Secured Area

Bldg. 969

Naval Air Station

Jacksonville Co: Duval FL 32212

Landholding Agency: Navy

Property Number: 77200540014

Status: Unutilized

Reasons: Secured Area

Bldgs. 1759, 1760

Naval Air Station

Jacksonville Co: Duval FL

Landholding Agency: Navy

Property Number: 77200540015

Status: Unutilized

Reasons: Secured Area

Bldg. 1917

Naval Air Station

Jacksonville Co: Duval FL 32212

Landholding Agency: Navy

Property Number: 77200540016

Status: Unutilized

Reasons: Secured Area

Bldgs. 1, 2

Naval Station

Mayport Co: Duval FL 32228

Landholding Agency: Navy

Property Number: 77200540018

Status: Excess

Reasons: Extensive deterioration, Secured Area, Floodway

Bldg. 24

Naval Station

Mayport Co: Duval FL 32228

Landholding Agency: Navy

Property Number: 77200540019

Status: Excess

Reasons: Secured Area, Floodway, Extensive deterioration

Bldg. 66

Naval Station

Mayport Co: Duval FL 32228

Landholding Agency: Navy

Property Number: 77200540020

Status: Excess

Reasons: Extensive deterioration, Floodway, Secured Area

Bldg. 216

Naval Station

Mayport Co: Duval FL 32228

Landholding Agency: Navy

Property Number: 77200540021

Status: Excess

Reasons: Secured Area, Extensive deterioration, Floodway

Bldgs. 437, 450

Naval Station

Mayport Co: Duval FL 32228

Landholding Agency: Navy

Property Number: 77200540022

Status: Excess

Reasons: Secured Area, Floodway, Extensive deterioration

Bldgs. 1234, 1235

Naval Station

Mayport Co: Duval FL 32228

Landholding Agency: Navy

Property Number: 77200540023

Status: Excess

Reasons: Extensive deterioration, Secured Area, Floodway

Bldg. 212

Naval Station

Mayport Co: Duval FL 32228

Landholding Agency: Navy

Property Number: 77200620011

Status: Unutilized

Reasons: Secured Area, Extensive deterioration, Floodway

Bldg. 508

Naval Station

Mayport FL 32228

Landholding Agency: Navy

Property Number: 77200620035

Status: Unutilized

Reasons: Floodway, Secured Area

Bldg. 834

Naval Air Station

Pensacola Co: Escambia FL 32508

Landholding Agency: Navy

Property Number: 77200630022

Status: Unutilized

Reasons: Extensive deterioration

Bldg. 2658

Naval Air Station

Pensacola Co: Escambia FL 32508

Landhold Agency: Navy

Property Number: 77200630023

Status: Unutilized

Reasons: Extensive deterioration

Bldg. 3483

Naval Air Station

Pensacola Co: Escambia FL 32508

Landhold Agency: Navy

Property Number: 77200630024

Status: Unutilized

Reasons: Extensive deterioration

Bldg. 6144

Naval Air Station

Pensacola Co: Escambia FL 32508

Landhold Agency: Navy

Property Number: 77200630025

Status: Unutilized

Reasons: Extensive deterioration

Bldg. F11

Naval Air Station

Key West FL 33040

Landhold Agency: Navy

Property Number: 77200630026

Status: Unutilized

Reasons: Secured Area, Extensive deterioration

Bldgs. A225, A409

Naval Air Station

Key West FL 33040

Landhold Agency: Navy

Property Number: 77200630027

Status: Unutilized

Reasons: Extensive deterioration, Secured Area

Bldg. A515

Naval Air Station

Key West FL 33040

Landhold Agency: Navy

Property Number: 77200630028

Status: Unutilized

Reasons: Extensive deterioration, Secured Area

Bldg. A635

Naval Air Station

Key West FL 33040

Landhold Agency: Navy

Property Number: 77200630029

Status: Unutilized

Reasons: Secured Area, Extensive deterioration

Bldgs. A993, A994

Naval Air Station

Key West FL 33040

Landhold Agency: Navy

Property Number: 77200630030

Status: Unutilized

Reasons: Secured Area, Extensive deterioration

Bldg. A1068

Naval Air Station

Key West FL 33040

Landhold Agency: Navy

Property Number: 77200630031

Status: Unutilized

Reasons: Extensive deterioration, Secured Area

Bldg. A4021

Naval Air Station

Key West FL 33040

Landhold Agency: Navy

Property Number: 77200630032

Status: Unutilized

Reasons: Extensive deterioration, Secured Area

Bldg. 4080

Naval Air Station

Key West FL 33040

Landhold Agency: Navy

Property Number: 77200630033

Status: Unutilized

Reasons: Extensive deterioration, Secured Area

88 Facilities

Saufley Field

Pensacola FL 32508

Landhold Agency: Navy

Property Number: 77200740016

Status: Unutilized

Reasons: Within airport runway clear zone

Bldgs. C5, A329

Naval Air Station

Key West FL 33040

Landhold Agency: Navy

Property Number: 77200810007

Status: Excess

Reasons: Extensive deterioration, Secured Area

Bldgs. 2, 5, 24, 26

Naval Air Station

Jacksonville Co: Duval FL

Landhold Agency: Navy

Property Number: 77200820006

Status: Unutilized

Reasons: Extensive deterioration, Secured Area

Bldgs. 104A, 136, 159

Naval Air Station

Jacksonville Co: Duval FL 32212

Landhold Agency: Navy

Property Number: 77200820007

Status: Unutilized

Reasons: Extensive deterioration, Secured Area

6 Bldgs.

Naval Air Station

Jacksonville Co: Duval FL 32212

Landhold Agency: Navy

Property Number: 77200820008

Status: Unutilized

Directions: 323, 324, 338, 339, 347, 348

Reasons: Extensive deterioration, Secured Area

5 Bldgs.

Naval Air Station

Jacksonville Co: Duval FL 32212

Landholding Agency: Navy

Property Number: 77200820009

Status: Unutilized

Directions: 607, 612, 614B, 674, 675

Reasons: Secured Area, Extensive deterioration

Bldgs. 820, 890

Naval Air Station

Jacksonville Co: Duval FL 32212

Landholding Agency: Navy

Property Number: 77200820010

Status: Unutilized

Reasons: Secured Area, Extensive deterioration

Bldgs. 1756, 1937

Naval Air Station

Jacksonville Co: Duval FL 32212

Landholding Agency: Navy

Property Number: 77200820011

Status: Unutilized

Reasons: Secured Area, Extensive deterioration

14 Bldgs.

Naval Air Station

Jacksonville FL

Landholding Agency: Navy

Property Number: 77201020007

Status: Unutilized

Directions: 12, 127, 127E, 127F, 127I, 640, 640B, 640C, 640D, 640E, 640F, 1913, 1960, 1964

Reasons: Secured Area, Extensive deterioration

Georgia

6 Cabins

QSRG Grassy Pond Rec Annex

Lake Park GA 31636

Landholding Agency: Air Force

Property Number: 18200730004

Status: Unutilized

Reasons: Extensive deterioration

Bldgs. 101, 102, 103

Moody AFB

Lowndes GA 31699

Landholding Agency: Air Force

Property Number: 18200810006

Status: Excess

Reasons: Extensive deterioration

Bldgs. 330, 331, 332, 333

Moody AFB

Lowndes GA 31699

Landholding Agency: Air Force

Property Number: 18200810007

Status: Excess

Reasons: Extensive deterioration

Bldgs. 794, 1541

Moody AFB

Lowndes GA

Landholding Agency: Air Force

Property Number: 18200820012

Status: Unutilized

Reasons: Secured Area

Bldg. 970

Moody AFB

Lowndes GA 31699

Landholding Agency: Air Force

Property Number: 18200840003

Status: Unutilized

Reasons: Secured Area

Bldg. 205

Moody AFB

Lowndes GA 31699

Landholding Agency: Air Force

Property Number: 18200920005

Status: Unutilized

Reasons: Secured Area, Extensive deterioration

Bldgs. 104, 118, 739, 742, 973

Moody AFB

Lowndes GA 31699

Landholding Agency: Air Force

Property Number: 18200920016

Status: Unutilized

Reasons: Extensive deterioration, Secured Area

Bldgs. 134, 804, 841, 978

Moody AFB

Moody AFB GA 31699

Landholding Agency: Air Force

Property Number: 18201010008

Status: Underutilized

Reasons: Secured Area

Bldgs. 665 and 1219

Moody AFB

Moody AFB GA 31699

Landholding Agency: Air Force

Property Number: 18201020009

Status: Underutilized

Reasons: Secured Area

7 Bldgs.

Moody AFB

Moody GA 31699

Landholding Agency: Air Force

Property Number: 18201030007

Status: Unutilized

Directions: 112, 150, 716, 719, 757, 1220, 1718

Reasons: Secured Area

Bldg. 5101

Naval Submarine Base

Kings Bay Co: Camden GA 31547

Landholding Agency: Navy

Property Number: 77200520004

Status: Unutilized

Reasons: Secured Area, Extensive deterioration, Floodway

Bldg. 0038

Naval Submarine Base

Kings Bay GA 31547

Landholding Agency: Navy

Property Number: 77200620036

Status: Unutilized

Reasons: Secured Area, Extensive deterioration

7 Bldgs.

Marine Logistics Base

Albany GA

Landholding Agency: Navy

Property Number: 77200720040

Status: Excess

Directions: 7100, 7106, 7108, 7110, 5584, 7964, 7966

Reasons: Secured Area

Guam

Bldg. 1094

AAFB Yigo

Yigo GU 96543

Landholding Agency: Air Force

Property Number: 18200830007

Status: Unutilized

Reasons: Extensive deterioration

15 Bldgs.

Andersen AFB

Yigo GU 96543

Landholding Agency: Air Force

Property Number: 18200920006

Status: Excess

Reasons: Secured Area

Bldgs. 72, 73, 74

Andersen AFB

Mount Santa Rosa GU

Landholding Agency: Air Force

Property Number: 18200920017

Status: Excess

Reasons: Secured Area, Extensive deterioration

Bldgs. 101, 102

Andersen AFB

Pots Junction GU

Landholding Agency: Air Force

Property Number: 18200920018

Status: Excess

Reasons: Extensive deterioration

Bldg. 575

Naval Base

Camp Covington

Dededo GU

Landholding Agency: Navy

Property Number: 77200920041

Status: Unutilized

Reasons: Secured Area

Hawaii

Bldg. 1815

Hickam AFB

Hickam HI 96853

Landholding Agency: Air Force

Property Number: 18200730005

Status: Unutilized

Reasons: Extensive deterioration

Bldgs. 1028, 1029

Hickam AFB

Hickam HI 96853

Landholding Agency: Air Force

Property Number: 18200740006

Status: Unutilized

Reasons: Secured Area

Bldgs. 1710, 1711

Hickam AFB

Hickam HI 96853

Landholding Agency: Air Force

Property Number: 18200740007

Status: Unutilized

Reasons: Secured Area

Bldg. 1713

Hickam AFB

Hickam HI

Landholding Agency: Air Force

Property Number: 18200830008

Status: Unutilized

Reasons: Extensive deterioration

Bldg. 1843

Hickam AFB

Hickam HI 96853

Landholding Agency: Air Force

Property Number: 18200920019

Status: Unutilized

Reasons: Extensive deterioration

Bldg. 1716

RPUID

Wake Island HI

Landholding Agency: Air Force

Property Number: 18201010009

Status: Unutilized

Reasons: Secured Area, Extensive deterioration

Bldg. 12

Kokee AFS

Waimea HI

Landholding Agency: Air Force

Property Number: 18201010010

Status: Unutilized

Reasons: Extensive deterioration

Bldg. 501

Hickam AFB

Hickam HI

Landholding Agency: Air Force

Property Number: 18201010011

Status: Unutilized

Reasons: Secured Area

6 Bldgs.

Kaena Point Satellite

Tracking Station

Honolulu HI

Landholding Agency: Air Force

Property Number: 18201010012

Status: Excess

Directions: 16, 18, 20, 21, 32, 33

Reasons: Extensive deterioration

Bldgs. 39 and 14111

Kaena Point Satellite Tracking Station

Honolulu HI 96792

Landholding Agency: Air Force

Property Number: 18201020010

Status: Excess

Reasons: Secured Area, Within 2000 ft. of flammable or explosive material

Bldgs. 5378, 469

Ford Island Naval Station

Pearl Harbor HI 96860

Landholding Agency: Navy

Property Number: 77201020009

Status: Underutilized

Reasons: Secured Area

Bldg. 6477

Marine Corps Base

Kaneohe HI 96863

Landholding Agency: Navy

Property Number: 77201030023

Status: Underutilized

Reasons: Secured Area

Indiana

Bldg. 103

Grissom AFB

Peru IN 46970

Landholding Agency: Air Force

Property Number: 18200940011

Status: Excess

Reasons: Within 2000 ft. of flammable or explosive material

Bldg. 18

Grissom AFB

Peru IN 46970

Landholding Agency: Air Force

Property Number: 18201020012

Status: Excess

Reasons: Within 2000 ft. of flammable or explosive material

Kansas

27 Bldgs.

McConnell AFB

Sedgwick KS 67210

Landholding Agency: Air Force

Property Number: 18201020013

Status: Excess

Directions: 2052, 2347, 2054, 2056, 2044, 2047, 2049, 2071, 2068, 2065, 2063, 2060, 2237, 2235, 2232, 2230, 2352, 2349, 2345, 2326, 2328, 2330, 2339, 2324, 2342, 2354, and 2333

Reasons: Secured Area

Louisiana

Barksdale Middle Marker

Bossier LA 71112

Landholding Agency: Air Force

Property Number: 18200730006

Status: Excess

Reasons: Extensive deterioration

TARS Sites 1-6

Morgan City LA 70538

Landholding Agency: Air Force

Property Number: 18201020014

Status: Unutilized

Reasons: Secured Area

Bldg. 11

Naval Support Activity

New Orleans LA 70142

Landholding Agency: Navy

Property Number: 77200810027

Status: Excess

Reasons: Extensive deterioration, Secured Area

5 Bldgs.

Naval Air Station

New Orleans LA

Landholding Agency: Navy

Property Number: 77201030007

Status: Excess

Directions: 11, 12, 82, 134, 137

Reasons: Secured Area

Maine

Facilities 1, 2, 3, 4

OTH-B Site

Moscow ME 04920

Landholding Agency: Air Force

Property Number: 18200730007

Status: Unutilized

Reasons: Within 2000 ft. of flammable or explosive material

Bldgs. B496 and 497

Bangor Internatl Airport

Bangor ME 04401

Landholding Agency: Air Force

Property Number: 18201020015

Status: Unutilized

Reasons: Secured Area

Maryland

Bldg. 2075

Naval Surface Warfare

Indian Head MD

Landholding Agency: Navy

Property Number: 77200630043

Status: Excess

Reasons: Extensive deterioration

9 Bldgs.

National Naval Medical Ctr

Bethesda MD 20889

Landholding Agency: Navy

Property Number: 77200920028

Status: Unutilized

Directions: 17, 18, 21, 49, 69, 141, 146, 150, 174

Reasons: Secured Area, Extensive deterioration

5 Bldgs.

National Naval Medical Ctr

Bethesda MD

Landholding Agency: Navy

Property Number: 77200920030

Status: Unutilized

Directions: 23, 29, 139, 176, 219

Reasons: Secured Area

Bldg. 1353

Naval Air Station

Patuxent River MD

Landholding Agency: Navy

Property Number: 77201020016

Status: Excess

Reasons: Extensive deterioration

Structure 360

Naval Air Station

Solomons MD

Landholding Agency: Navy

Property Number: 77201030008

Status: Unutilized

Reasons: Secured Area

9 Bldgs.

Naval Support Activity

Anne Arundel MD 21402

Landholding Agency: Navy

Property Number: 77201030009

Status: Excess

Directions: 90NS, 159NS, 165RL, 166NS, 236NS, 257NS, 278NS, 317NS, NA329

Reasons: Extensive deterioration

Bldg. 2033

Naval Air Station

Patuxent River MD

Landholding Agency: Navy

Property Number: 77201030010

Status: Unutilized

Reasons: Extensive deterioration, Secured Area

Bldg. C139

Naval Support Facility

Annapolis MD

Landholding Agency: Navy

Property Number: 77201030018

Status: Unutilized

Reasons: Extensive deterioration, Secured Area

Bldgs. C236, C235, C234, C67

Naval Support Facility

Annapolis MD

Landholding Agency: Navy

Property Number: 77201030019

Status: Unutilized

Reasons: Secured Area, Extensive deterioration

Bldgs. C140, C141, C142, C72

Naval Support Facility

Annapolis MD

Landholding Agency: Navy

Property Number: 77201030020

Status: Unutilized

Reasons: Secured Area, Extensive deterioration

Bldgs. C201-C213, C215

Naval Support Facility

Annapolis MD

Landholding Agency: Navy

Property Number: 77201030021

Status: Unutilized

Reasons: Extensive deterioration, Secured Area

Massachusetts

Albano House

Minute Man Natl Hist Park

Concord MA 01742

Landholding Agency: Interior

Property Number: 61201020013

Status: Unutilized

Reasons: Extensive deterioration

Mississippi

Bldg. 9

Construction Battalion Center

Gulfport MS

Landholding Agency: Navy

Property Number: 77200610039

Status: Unutilized

Reasons: Secured Area, Extensive deterioration

Bldgs. 22, 27, 41

Construction Battalion Center

Gulfport MS

Landholding Agency: Navy

Property Number: 77200610040

Status: Unutilized

Reasons: Extensive deterioration, Secured Area

Bldgs. 108, 181, 183

Construction Battalion Center

Gulfport MS

Landholding Agency: Navy

Property Number: 77200610041

Status: Unutilized

Reasons: Extensive deterioration, Secured Area

Bldg. 201

Construction Battalion Center

Gulfport MS

Landholding Agency: Navy

Property Number: 77200610042

Status: Unutilized

Reasons: Extensive deterioration, Secured Area

Bldgs. 270, 270A-1, 270A-2

Construction Battalion Center

Gulfport MS

Landholding Agency: Navy

Property Number: 77200610043

Status: Unutilized

Reasons: Secured Area, Extensive deterioration

Bldgs. 375, 420

Construction Battalion Center

Gulfport MS

Landholding Agency: Navy

Property Number: 77200610044

Status: Unutilized

Reasons: Extensive deterioration, Secured Area

Bldgs. 95, 96

Naval Air Station

Meridian MS 39309

Landholding Agency: Navy

Property Number: 77200720046

Status: Unutilized

Reasons: Within 2000 ft. of flammable or explosive material, Secured Area, Within airport runway clear zone

Bldg. 167

Naval Air Station

Meridian MS 39309

Landholding Agency: Navy

Property Number: 77200720047

Status: Unutilized

Reasons: Secured Area

Bldgs. 212, 228

Naval Air Station

Meridian MS 39309

Landholding Agency: Navy

Property Number: 77200720048

Status: Unutilized

Reasons: Secured Area

Bldgs. 266, 267

Naval Air Station

Meridian MS 39309

Landholding Agency: Navy

Property Number: 77200720049

Status: Unutilized

Reasons: Secured Area

Bldgs. 351, 445

Naval Air Station

Meridian MS 39309

Landholding Agency: Navy

Property Number: 77200720050

Status: Unutilized

Reasons: Secured Area

Bldgs. 182, 183

Naval Air Station

Meridian MS 39309

Landholding Agency: Navy

Property Number: 77200810014

Status: Unutilized

Reasons: Secured Area

Bldgs. 222, 230, 326

Naval Air Station

Meridian MS 39309

Landholding Agency: Navy

Property Number: 77200810015

Status: Unutilized

Reasons: Secured Area

Montana

Bldgs. 1600, 1601

Malmstrom AFB

Cascade MT 59402

Landholding Agency: Air Force

Property Number: 18200920020

Status: Unutilized

Reasons: Within 2000 ft. of flammable or explosive material, Secured Area, Extensive deterioration

Nebraska

Bldgs. 163, 402, 554

Offutt AFB

Offutt NE 68113

Landholding Agency: Air Force

Property Number: 18201030008

Status: Excess

Reasons: Secured Area

Nevada

Bldg. 33400

Ely

Ely NV 89301

Landholding Agency: Air Force

Property Number: 18200820014

Status: Unutilized

Reasons: Extensive deterioration, Secured Area

3 Bldgs.

Nevada Test Site

23-790, 06-CP50, 26-2107

Mercury Co: Nye NV 89023

Landholding Agency: Navy

Property Number: 77200510025

Status: Excess

Reasons: Other—contamination, Secured Area

Units 501-521

Naval Air Station

Fallon NV

Landholding Agency: Navy

Property Number: 77200710017

Status: Excess

Reasons: Secured Area

4 Bldgs.

Naval Air Station

Fallon NV 89496

Landholding Agency: Navy

Property Number: 77201020017

Status: Underutilized

Directions: 305, 306, 310, and 319

Reasons: Extensive deterioration

New Hampshire

Bldg. 152

Pease Internatl Tradeport

Newington NH 03803

Landholding Agency: Air Force

Property Number: 18200920007

Status: Unutilized

Reasons: Within 2000 ft. of flammable or explosive material, Secured Area

Bldg. 16

Pease Internatl Tradeport

Newington NH 03803

Landholding Agency: Air Force

Property Number: 18200930006

Status: Excess

Reasons: Within 2000 ft. of flammable or explosive material

5 Structures

Portsmouth Naval Shipyard

Portsmouth NH

Landholding Agency: Navy

Property Number: 77201010027

Status: Excess

Directions: Berths 15-16, 15, 176, 202

Reasons: Secured Area

New Jersey

Bldgs. 2609, 2611

Joint Base

McGuire NJ

Landholding Agency: Air Force

Property Number: 18201010013

Status: Unutilized

Reasons: Extensive deterioration

5 Bldgs.

Joint Base McGuire-Dix-Lakehurst

Trenton NJ 08641

Landholding Agency: Air Force

Property Number: 18201020016

Status: Unutilized

Directions: 1827, 1925, 3424, 3446, and 3449

Reasons: Extensive deterioration, Secured Area

3 Tracts

Delaware Water Nat'l Rec. Area

Montague Co: Sussex NJ 07827

Landholding Agency: Interior

Property Number: 61201020002

Status: Unutilized

Directions: Nos. 10839-5, 11233, and 11400

Reasons: Extensive deterioration

8 Tracts

Delaware Water Gap Nat'l Rec. Area

Walpack NJ 07881

Landholding Agency: Interior

Property Number: 61201020003

Status: Unutilized

Directions: Nos. 7055-1, 7107-1, 7613, 7820-2, 8201, 8215-1, and 8215-2

Reasons: Extensive deterioration

Tract 603-1

Delaware Water Gap Nat'l Rec. Area

Pahaquarry Co: Warren NJ 07825

Landholding Agency: Interior

Property Number: 61201020004

Status: Unutilized

Reasons: Extensive deterioration

Tract 10208

Delaware Water Gap Nat'l Rec. Area

Sandyston Co: Sussex NJ 07826

Landholding Agency: Interior

Property Number: 61201020005

Status: Unutilized

Reasons: Extensive deterioration

Bldg. 544

Naval Weapons Station

Colts Neck NJ 07722

Landholding Agency: Navy

Property Number: 77201020018

Status: Unutilized

Reasons: Extensive deterioration, Within 2000 ft. of flammable or explosive material, Secured Area

New Mexico

Bldg. 1016

Kirtland AFB

Bernalillo NM 87117

Landholding Agency: Air Force

Property Number: 18200730008

Status: Unutilized

Reasons: Secured Area, Extensive deterioration, Within 2000 ft. of flammable or explosive material

Bldgs. 40, 841

Holloman AFB

Otero NM 88330

Landholding Agency: Air Force

Property Number: 18200820016

Status: Underutilized

Reasons: Secured Area

Bldgs. 436, 437

Kirtland AFB

Bernalillo NM 87117

Landholding Agency: Air Force

Property Number: 18200820017

Status: Underutilized

Reasons: Secured Area, Within 2000 ft. of flammable or explosive material

Bldgs. 20612, 29071, 37505

Kirtland AFB

Bernalillo NM 87117

Landholding Agency: Air Force

Property Number: 18200830010

Status: Unutilized

Reasons: Secured Area

Bldgs. 88, 89

Holloman AFB

Otero NM 88330

Landholding Agency: Air Force

Property Number: 18200830020

Status: Unutilized

Reasons: Secured Area, Within 2000 ft. of flammable or explosive material, Extensive deterioration

Bldgs. 312, 322

Holloman AFB

Otero NM 88330

Landholding Agency: Air Force

Property Number: 18200830021

Status: Unutilized

Reasons: Secured Area

Bldg. 569

Holloman AFB

Otero NM 88330

Landholding Agency: Air Force

Property Number: 18200830022

Status: Unutilized

Reasons: Within 2000 ft. of flammable or explosive material Secured Area

Bldgs. 807, 833

Holloman AFB

Otero NM 88330

Landholding Agency: Air Force

Property Number: 18200830023

Status: Unutilized

Reasons: Within 2000 ft. of flammable or explosive material, Secured Area

Bldg. 1245

Holloman AFB

Otero NM 88330

Landholding Agency: Air Force

Property Number: 18200830024

Status: Unutilized

Reasons: Secured Area

5 Bldgs.

Holloman AFB

Otero NM 88330

Landholding Agency: Air Force

Property Number: 18200840004

Status: Unutilized

Directions: 1201, 1202, 1203, 1205, 1207

Reasons: Secured Area

5 Bldgs.

Holloman AFB

Otero NM 88330

Landholding Agency: Air Force

Property Number: 18200920008

Status: Unutilized

Directions: 71, 1187, 1200, 1284, 1285

Reasons: Secured Area

6 Bldgs.

Holloman AFB

Holloman AFB NM

Landholding Agency: Air Force

Property Number: 18200930007

Status: Unutilized

Directions: 920, 921, 922, 923, 924, 930

Reasons: Secured Area

Bldgs. 1113, 1127

Holloman AFB

Holloman AFB NM

Landholding Agency: Air Force

Property Number: 18200930008

Status: Unutilized

Reasons: Secured Area

Bldg. 30143

Kirtland AFB

Bernalillo NM 87117

Landholding Agency: Air Force

Property Number: 18200930009

Status: Excess

Reasons: Within 2000 ft. of flammable or explosive material, Extensive deterioration, Secured Area

Bldg. 1267, 1620

Holloman AFB

Otero NM 88330

Landholding Agency: Air Force

Property Number: 18200940013

Status: Unutilized

Reasons: Secured Area

Bldgs. 214, 851, 1199

Holloman AFB

Holloman AFB NM 88330

Landholding Agency: Air Force

Property Number: 18201010014

Status: Underutilized

Reasons: Secured Area

Bldg. 865

Holloman AFB

Otero NM 88330

Landholding Agency: Air Force

Property Number: 18201030009

Status: Unutilized

Reasons: Extensive deterioration, Secured Area, Within 2000 ft. of flammable or explosive material

Bldg. N-212

Naval Surface Warfare Center

White Sands NM

Landholding Agency: Navy

Property Number: 77201030012

Status: Excess

Reasons: Secured Area

North Carolina

Bldg. 82

Marine Corps Air Station

Cherry Point Co: Craven NC 28533

Landholding Agency: Navy

Property Number: 77200510009

Status: Underutilized

Reasons: Secured Area

Bldg. 4314

Marine Corps Air Station

Cherry Point Co: Craven NC 28533

Landholding Agency: Navy

Property Number: 77200510010

Status: Underutilized

Reasons: Secured Area

Bldg. 124

Marine Corps Air Station

Cherry Point Co: Craven NC 28533

Landholding Agency: Navy

Property Number: 77200510023

Status: Underutilized

Reasons: Secured Area

Bldgs. 73, 95, 1018

Marine Corps Air Station

Cherry Point NC

Landholding Agency: Navy

Property Number: 77200620003

Status: Unutilized

Reasons: Secured Area

Bldg. 499

Marine Corps Air Station

Cherry Point NC

Landholding Agency: Navy

Property Number: 77200620038

Status: Unutilized

Reasons: Secured Area

Bldgs. 3177, 3885

Marine Corps Air Station

Cherry Point NC

Landholding Agency: Navy

Property Number: 77200620039

Status: Unutilized

Reasons: Secured Area

Bldg. 4473

Marine Corps Air Station

Cherry Point NC

Landholding Agency: Navy

Property Number: 77200620040

Status: Unutilized

Reasons: Secured Area

Bldg. 4523

Marine Corps Air Station

Cherry Point NC

Landholding Agency: Navy

Property Number: 77200620041

Status: Unutilized

Reasons: Secured Area

North Dakota

Bldgs. 1612, 1741

Grand Forks AFB

Grand Forks ND 58205

Landholding Agency: Air Force

Property Number: 18200720023

Status: Unutilized

Reasons: Within 2000 ft. of flammable or explosive material, Secured Area

Oklahoma

Bldg. 193

Vance AFB

Vance OK 73705

Landholding Agency: Air Force

Property Number: 18201010015

Status: Excess

Reasons: Secured Area

Oregon

Bldg. 1001

ANG Base

Portland OR 97218

Landholding Agency: Air Force

Property Number: 18200820018

Status: Underutilized

Reasons: Within 2000 ft. of flammable or explosive material, Secured Area

Painted Hills Quarter

37375 Bear Creek Rd.

Mitchell Co: Wheeler OR 97750

Landholding Agency: Interior

Property Number: 61201020006

Status: Unutilized

Reasons: Extensive deterioration

Pennsylvania

9 Tracts

Delaware Water Gap Nat'l Rec. Area

Dingmans Ferry Co: Pike PA 18328

Landholding Agency: Interior

Property Number: 61201020007

Status: Unutilized

Directions: Nos. 1077, 8548, 8548-#51,10139, 10552, 10964, 11329, 11904, and 12104

Reasons: Extensive deterioration

3 Bldgs.

Delaware Water Gap Nat'l Rec. Area

Middle Smithfield Co: Monroe PA 18301

Landholding Agency: Interior

Property Number: 61201020008

Status: Unutilized

Directions: Bldg Nos. 919, 1359, and 1522

Reasons: Extensive deterioration

Tract 7300

Delaware Water Gap Nat'l Rec. Area

Bushkill Co: Pike PA 18324

Landholding Agency: Interior

Property Number: 61201020009

Status: Unutilized

Reasons: Extensive deterioration, Floodway

3 Tracts

Delaware Water Gap Nat'l Rec. Area

Milford Co: Pike PA 18337

Landholding Agency: Interior

Property Number: 61201020010

Status: Unutilized

Directions: Nos. 12415, 12424, and 12848

Reasons: Extensive deterioration, Floodway

Bldgs. 13, 90, 93, 97

Naval Support Activity

Philadelphia PA 19111

Landholding Agency: Navy

Property Number: 77200820012

Status: Excess

Reasons: Secured Area, Extensive deterioration

Bldgs. 431, 483

Naval Support Activity

Philadelphia PA 19111

Landholding Agency: Navy

Property Number: 77200820013

Status: Excess

Reasons: Extensive deterioration, Within 2000 ft. of flammable or explosive material

Bldgs. 530, 534, 567, 585

Naval Support Activity

Philadelphia PA 19111

Landholding Agency: Navy

Property Number: 77200820014

Status: Excess

Reasons: Extensive deterioration, Within 2000 ft. of flammable or explosive material

Bldgs. 618, 743

Naval Support Activity

Philadelphia PA 19111

Landholding Agency: Navy

Property Number: 77200820015

Status: Excess

Reasons: Extensive deterioration

Bldg. 37

Naval Support Activity

Philadelphia PA

Landholding Agency: Navy

Property Number: 77200930009

Status: Excess

Reasons: Secured Area

Bldgs. 619, 636, 662, 947

Naval Business Center

Philadelphia PA 19112

Landholding Agency: Navy

Property Number: 77200930010

Status: Excess

Reasons: Within 2000 ft. of flammable or explosive material

Bldgs. 47, 531, 1070

Naval Support Activity

Mechanicsburg PA

Landholding Agency: Navy

Property Number: 77200930018

Status: Excess

Reasons: Extensive deterioration

Rhode Island

Bldg. 305CP

Naval Station

Newport RI 02841

Landholding Agency: Navy

Property Number: 77200820004

Status: Excess

Reasons: Extensive deterioration, Secured Area

Bldg. 1A-CC

Naval Station

Newport RI 02841

Landholding Agency: Navy

Property Number: 77200820022

Status: Excess

Reasons: Secured Area

Bldg. 164

Naval Station

Newport RI 02841

Landholding Agency: Navy

Property Number: 77200820036

Status: Excess

Reasons: Within 2000 ft. of flammable or explosive material Floodway, Secured Area

Bldgs. 348, 85CHI

Naval Station

Newport RI

Landholding Agency: Navy

Property Number: 77200820043

Status: Unutilized

Reasons: Secured Area

Facility 670

Naval Station

Harbor Island

Newport RI 02841

Landholding Agency: Navy

Property Number: 77200820044

Status: Excess

Reasons: Secured Area, Extensive deterioration

South Carolina

Bldgs. 19, 20, 23

Shaw AFB

Sumter SC 29152

Landholding Agency: Air Force

Property Number: 18200730009

Status: Underutilized

Reasons: Secured Area

Bldgs. 27, 28, 29

Shaw AFB

Sumter SC 29152

Landholding Agency: Air Force

Property Number: 18200730010

Status: Underutilized

Reasons: Secured Area

Bldgs. 30, 39

Shaw AFB

Sumter SC 29152

Landholding Agency: Air Force

Property Number: 18200730011

Status: Underutilized

Reasons: Secured Area

8 Bldgs.

Shaw AFB

Sumter SC 29152

Landholding Agency: Air Force

Property Number: 18200920021

Status: Unutilized

Directions: B14, B22, B31, B116, B218, B232, B343, B3403

Reasons: Secured Area

Bldg. B1626

Shaw AFB

Sumter SC 29152

Landholding Agency: Air Force

Property Number: 18200930010

Status: Unutilized

Reasons: Within 2000 ft. of flammable or explosive material, Secured Area

10 Bldgs.

Shaw AFB

Sumter SC 29152

Landholding Agency: Air Force

Property Number: 18200940014

Status: Unutilized

Directions: B16, B34, B122, B219, B220, B221, B403, B418, B428, B430

Reasons: Secured Area

5 Bldgs.

Shaw AFB

Sumter SC 29152

Landholding Agency: Air Force

Property Number: 18200940015

Status: Unutilized

Directions: B800, B900, B911, B1040, B1041

Reasons: Secured Area

7 Bldgs.

Shaw AFB

Sumber SC 29152

Landholding Agency: Air Force

Property Number: 18200940016

Status: Unutilized

Directions: B1702, B1707, B1708, B1804, B1813, B1907, B5226

Reasons: Secured Area

7 Bldgs.

Shaw AFB

Sumter SC 29152

Landholding Agency: Air Force

Property Number: 18201020017

Status: Unutilized

Directions: B1026, B400, B401, B1402, B1701, B1711, and B1720

Reasons: Secured Area

Bldgs. B40006 and B40009

Shaw AFB

Wedgefield SC 29168

Landholding Agency: Air Force

Property Number: 18201020018

Status: Unutilized

Reasons: Secured Area

Bldg. B411

Shaw AFB

Sumter SC 29152

Landholding Agency: Air Force

Property Number: 18201030010

Status: Excess

Reasons: Within 2000 ft. of flammable or explosive material, Secured Area

Bldgs. 1000 thru 1021

Naval Weapons Station

Goose Creek Co: Berkeley SC 29445

Landholding Agency: Navy

Property Number: 77200440018

Status: Unutilized

Reasons: Secured Area

Bldg. 102

Marine Corps Recruit Depot

Parris Island Co: Beaufort SC 29905

Landholding Agency: Navy

Property Number: 77200530017

Status: Unutilized

Reasons: Secured Area, Extensive deterioration, Floodway

21 Bldgs.

Naval Weapons Station

Goose Creek Co: Berkeley SC 29445

Landholding Agency: Navy

Property Number: 77200620034

Status: Unutilized

Directions: 4, 167C, 174, 180, 350, 383, 400, 410, 769, 790, 823, 824, 904, 930, 930A, 953, 953A, 971, 975, 2305, 3526

Reasons: Within 2000 ft. of flammable or explosive material, Secured Area

Bldg. 1148

Naval Weapons Station

Goose Creek Co: Berkeley SC 29445

Landholding Agency: Navy

Property Number: 77200630044

Status: Excess

Reasons: Extensive deterioration

Bldg. 200

Marine Corps Recruit Depot

Parris Island SC 29905

Landholding Agency: Navy

Property Number: 77200720018

Status: Unutilized

Reasons: Floodway, Secured Area

Bldgs. 908, 1ATX211-1ATX220

Naval Weapons Station

Goose Creek SC 29445

Landholding Agency: Navy

Property Number: 77200810029

Status: Unutilized

Reasons: Within 2000 ft. of flammable or explosive material, Secured Area

Bldgs. 40, 48, 856

Naval Weapons Station

Goose Creek SC 29445

Landholding Agency: Navy

Property Number: 77200810030

Status: Unutilized

Reasons: Secured Area, Within 2000 ft. of flammable or explosive material

Bldgs. 934, 2333

Naval Weapons Station

Goose Creek SC 29445

Landholding Agency: Navy

Property Number: 77200810031

Status: Unutilized

Reasons: Within 2000 ft. of flammable or explosive material, Secured Area

4 Bldgs.

Naval Weapon Station

Goose Creek SC 29445

Landholding Agency: Navy

Property Number: 77201020010

Status: Unutilized

Directions: 40, 72, 81, 85A, various miscellaneous properties

Reasons: Extensive deterioration, Secured Area

South Dakota

Bldg. 2306

Ellsworth AFB

Meade SD 57706

Landholding Agency: Air Force

Property Number: 18200740008

Status: Underutilized

Reasons: Secured Area, Within 2000 ft. of flammable or explosive material

Bldg. 6927

Ellsworth AFB

Meade SD 57706

Landholding Agency: Air Force

Property Number: 18200830011

Status: Unutilized

Reasons: Within 2000 ft. of flammable or explosive material, Secured Area

Texas

Bldg. 1001

FNXC, Dyess AFB

Tye Co: Taylor TX 79563

Landholding Agency: Air Force

Property Number: 18200810008

Status: Unutilized

Reasons: Extensive deterioration

5 Bldgs.

Dyess AFB

Abilene TX 79607

Landholding Agency: Air Force

Property Number: 18200840005

Status: Unutilized

Directions: B-4003, 4120, B-4124, 4127, 4130

Reasons: Secured Area

4 Bldgs.

Dyess AFB

Abilene TX 79607

Landholding Agency: Air Force

Property Number: 18200840006

Status: Unutilized

Directions: 7225, 7226, 7227, 7313

Reasons: Secured Area

4 Bldgs.

Dyess AFB

Abilene TX 79607

Landholding Agency: Air Force

Property Number: 18200840007

Status: Unutilized

Directions: 8050, 8054, 8129, 8133

Reasons: Secured Area

5 Bldgs.

Dyess AFB

Abilene TX 79607

Landholding Agency: Air Force

Property Number: 18200840008

Status: Unutilized

Directions: B-9032, 9107, 9114, B-9140, 11900

Reasons: Secured Area

Bldg. B-4228

FNWZ Dyess AFB

Taylor TX 79607

Landholding Agency: Air Force

Property Number: 18200920009

Status: Unutilized

Reasons: Secured Area

Bldgs. B-3701, B-3702

FNWZ Dyess AFB

Pecos TX 79772

Landholding Agency: Air Force

Property Number: 18200920010

Status: Unutilized

Reasons: Secured Area

Bldgs. 1, 2, 3, 4

Tethered Aerostat Radar Site

Matagorda TX 77457

Landholding Agency: Air Force

Property Number: 18200920023

Status: Excess

Reasons: Secured Area

Bldg. 154

Goodfellow AFB

Goodfellow TX 76908

Landholding Agency: Air Force

Property Number: 18200920024

Status: Unutilized

Reasons: Secured Area

Bldg. FNXH 2001

Dyess AFB

Dyess AFB TX 79607

Landholding Agency: Air Force

Property Number: 18200930011

Status: Unutilized

Reasons: Secured Area, Within 2000 ft. of flammable or explosive material

6 Bldgs.

Dyess AFB

Dyess AFB TX 79607

Landholding Agency: Air Force

Property Number: 18200930013

Status: Unutilized

Directions: FNWZ 7235, 7312, 7405, 8045, 8120, 9113

Reasons: Secured Area

4 Bldgs.

Dyess AFB

Dyess AFB TX

Landholding Agency: Air Force

Property Number: 18200940017

Status: Unutilized

Directions: FNWZ 5017, 5305, 6015, 6122

Reasons: Secured Area

Bldg. 351

Laughlin AFB

Del Rio TX 78840

Landholding Agency: Air Force

Property Number: 18201010016

Status: Unutilized

Reasons: Secured Area

Bldgs. 112, 113, 141, 741

Goodfellow AFB

Goodfellow TX 76908

Landholding Agency: Air Force

Property Number: 18201010017

Status: Excess

Reasons: Secured Area

Bldgs. 6115, 6126, 6127

Dyess AFB

Dyess TX 79607

Landholding Agency: Air Force

Property Number: 18201030011

Status: Underutilized

Reasons: Secured Area

Bldg. 1732

Naval Air Station

Corpus Christi Co: Nueces TX

Landholding Agency: Navy

Property Number: 77200540007

Status: Excess

Reasons: Secured Area, Extensive deterioration

Bldg. 243

Naval Air Station Joint Reserve Base

Ft. Worth Co: Tarrant TX 76127

Landholding Agency: Navy

Property Number: 77200640035

Status: Unutilized

Reasons: Secured Area, Extensive deterioration

Bldg. 1430

Naval Air Station Joint Reserve Base

Ft. Worth Co: Tarrant TX 76127

Landholding Agency: Navy

Property Number: 77200640036

Status: Unutilized

Reasons: Secured Area, Extensive deterioration

Bldg. 1500

Naval Air Station Joint Reserve Base

Ft. Worth Co: Tarrant TX 76127

Landholding Agency: Navy

Property Number: 77200640037

Status: Unutilized

Reasons: Extensive deterioration, Secured Area

Bldg. 4151

Naval Air Station Joint Reserve Base

Ft. Worth Co: Tarrant TX 76127

Landholding Agency: Navy

Property Number: 77200640038

Status: Unutilized

Reasons: Secured Area, Extensive deterioration

Bldgs. 3379, 3380

Naval Air Station

Ft. Worth Co: Tarrant TX 76127

Landholding Agency: Navy

Property Number: 77200810023

Status: Unutilized

Reasons: Secured Area, Extensive deterioration

Bldgs. 1414, 3190

Naval Air Station

Joint Reserve Base

Ft. Worth TX 76127

Landholding Agency: Navy

Property Number: 77200830031

Status: Unutilized

Reasons: Secured Area

Bldgs. H-A thru H-J

Naval Air Station

Corpus Christi TX 78419

Landholding Agency: Navy

Property Number: 77201010052

Status: Unutilized

Reasons: Extensive deterioration

Facility 38

Naval Air Station

Ft. Worth TX

Landholding Agency: Navy

Property Number: 77201020011

Status: Unutilized

Reasons: Extensive deterioration

Bldgs. 4151, 1809

Naval Air Station

Ft. Worth TX

Landholding Agency: Navy

Property Number: 77201020012

Status: Unutilized

Reasons: Secured Area

Bldg. 1428

Naval Air Station

Ft. Worth TX 76127

Landholding Agency: Navy

Property Number: 77201020013

Status: Unutilized

Reasons: Secured Area, Extensive deterioration

Utah

5 Bldgs.

Naval Industrial Ordinance Plant

Magna UT 84044

Landholding Agency: Navy

Property Number: 77200720033

Status: Unutilized

Directions: 4D, 6A, 6C, 8C, 10B

Reasons: Secured Area, Within 2000 ft. of flammable or explosive material

4 Bldgs.

Naval Industrial Ordinance Plant

Magna UT 84044

Landholding Agency: Navy

Property Number: 77200720034

Status: Unutilized

Directions: 11, 15, 16, 19

Reasons: Within 2000 ft. of flammable or explosive material, Secured Area

Bldgs. 22A, 22B, 22C

Naval Industrial Ordinance Plant

Magna UT 84044

Landholding Agency: Navy

Property Number: 77200720035

Status: Unutilized

Reasons: Within 2000 ft. of flammable or explosive material, Secured Area

Bldgs. 23A, 23B, 23C

Naval Industrial Ordinance Plant

Magna UT 84044

Landholding Agency: Navy

Property Number: 77200720036

Status: Unutilized

Reasons: Within 2000 ft. of flammable or explosive material, Secured Area

4 Bldgs.

Naval Industrial Ordinance Plant

Magna UT 84044

Landholding Agency: Navy

Property Number: 77200720037

Status: Unutilized

Directions: 33, 45B, 45C, 46D

Reasons: Secured Area, Within 2000 ft. of flammable or explosive material

Virgin Islands

Plot 327

Christiansted VI

Landholding Agency: Interior

Property Number: 61201020014

Status: Unutilized

Reasons: Floodway

Virginia

12 Bldgs.

Langley AFB

Langley VA 23665

Landholding Agency: Air Force

Property Number: 18200920012

Status: Unutilized

Directions: 35, 36, 903, 905, 1013, 1020, 1033, 1050, 1066, 1067, 1069, 1075

Reasons: Floodway, Secured Area

Bldgs. 38, 52

Langley AFB

Langley VA 23665

Landholding Agency: Air Force

Property Number: 18201010018

Status: Unutilized

Reasons: Extensive deterioration, Secured Area

Bldgs. 52, 568, 731

Langley AFB

Langley VA 23665

Landholding Agency: Air Force

Property Number: 18201030012

Status: Unutilized

Reasons: Extensive deterioration, Secured Area

Bldgs. 500, 501

Naval Weapon Station

Yorktown VA 23691

Landholding Agency: Navy

Property Number: 77200640012

Status: Excess

Reasons: Extensive deterioration

Bldg. 628

Naval Weapon Station

Yorktown VA 23691

Landholding Agency: Navy

Property Number: 77200640013

Status: Excess

Reasons: Extensive deterioration

Bldg. 2398

Naval Station

Norfolk VA

Landholding Agency: Navy

Property Number: 77200730021

Status: Excess

Reasons: Secured Area

Bldgs. 375, 502, 502A

Naval Weapons Station

Yorktown VA 23691

Landholding Agency: Navy

Property Number: 77200810002

Status: Excess

Reasons: Secured Area, Extensive deterioration

Bldgs. 503, 503A, 504

Naval Weapons Station

Yorktown VA 23691

Landholding Agency: Navy

Property Number: 77200810003

Status: Excess

Reasons: Extensive deterioration, Secured Area

Bldgs. 505, 505A

Naval Weapons Station

Yorktown VA 23691

Landholding Agency: Navy

Property Number: 77200810004

Status: Excess

Reasons: Extensive deterioration, Secured Area

Bldgs. 1213, 1979

Naval Weapons Station

Yorktown VA 23691

Landholding Agency: Navy

Property Number: 77200810005

Status: Excess

Reasons: Extensive deterioration, Secured Area

Bldgs. 2007, 2008

Naval Weapons Station

Yorktown VA 23691

Landholding Agency: Navy

Property Number: 77200810006

Status: Excess

Reasons: Secured Area, Extensive deterioration

Bldgs. 439, 466

Naval Weapon Station

Yorktown VA 23691

Landholding Agency: Navy

Property Number: 77200820016

Status: Excess

Reasons: Secured Area

Bldgs. 760, 761

Naval Weapon Station

Yorktown VA 23691

Landholding Agency: Navy

Property Number: 77200820017

Status: Excess

Reasons: Secured Area

Bldgs. 1820, 1895

Naval Weapon Station

Yorktown VA 23691

Landholding Agency: Navy

Property Number: 77200820018

Status: Excess

Reasons: Secured Area

Bldgs. 1977, 1978, 1983

Naval Weapon Station

Yorktown VA 23691

Landholding Agency: Navy

Property Number: 77200820019

Status: Excess

Reasons: Secured Area

Bldg. CAD-RR

Naval Weapon Station

Yorktown VA 23691

Landholding Agency: Navy

Property Number: 77200820020

Status: Excess

Reasons: Secured Area

Bldg. 3186

Naval Amphibious Base

Little Creek Co: Norfolk VA

Landholding Agency: Navy

Property Number: 77200840006

Status: Unutilized

Reasons: Secured Area

19 Ammunition Bunkers

Naval Weapon Station

Ammo Plant 1 & 2

Yorktown VA 23691

Landholding Agency: Navy

Property Number: 77200840009

Status: Excess

Reasons: Extensive deterioration, Secured Area

11 Bldgs.

Naval Weapon Station

Yorktown VA 23691

Landholding Agency: Navy

Property Number: 77200840019

Status: Excess

Directions: 10, 11, 97, 97A, 98, 472, 526, 527, 528, 528A, 1592

Reasons: Secured Area, Extensive deterioration

8 Bldgs.

Naval Weapon Station

Yorktown VA 23691

Landholding Agency: Navy

Property Number: 77200840020

Status: Excess

Directions: 109, 110, 500A, 501A, 627, 629, 1249, 1462

Reasons: Extensive deterioration, Secured Area

5 Bldgs.

Naval Amphibious Base

Norfolk VA

Landholding Agency: Navy

Property Number: 77200840021

Status: Unutilized

Directions: 3375, 3420, 3550, 3695, 3891

Reasons: Extensive deterioration, Secured Area

6 Bldgs.

Naval Station

Norfolk VA 23511

Landholding Agency: Navy

Property Number: 77200930005

Status: Excess

Directions: FRP14, FRP15, FRP33, P17, P64, LP69

Reasons: Secured Area, Extensive deterioration

7 Bldgs.

Naval Station

Norfolk VA 23511

Landholding Agency: Navy

Property Number: 77200930007

Status: Excess

Directions: Q57, Q99, Q99A, SP83, SP85, SP85A, SP125

Reasons: Extensive deterioration, Secured Area

Bldg. LP23

Naval Station

Norfolk VA 23511

Landholding Agency: Navy

Property Number: 77200930024

Status: Excess

Reasons: Secured Area

Bldg. SDA-215

Naval Support Activity

Norfolk VA 23551

Landholding Agency: Navy

Property Number: 77201020006

Status: Excess

Reasons: Secured Area, Extensive deterioration

Bldgs. 3029, 3032, 3032A-F

Marine Corps Base

Quantico VA

Landholding Agency: Navy

Property Number: 77201030013

Status: Unutilized

Reasons: Extensive deterioration

Bldg. 2105

Naval Station

Norfolk VA 23511

Landholding Agency: Navy

Property Number: 77201030014

Status: Excess

Reasons: Secured Area

Washington

Defense Fuel Supply Point

18 structures/21 acres

Mukilteo WA

Landholding Agency: Air Force

Property Number: 18200910001

Status: Unutilized

Reasons: Extensive deterioration

Watermaster's Office

205 N. Washington Way

George Co: Grant WA 98848

Landholding Agency: Interior

Property Number: 61201020011

Status: Unutilized

Reasons: Extensive deterioration

Bldg. 529

Puget Sound Naval Shipyard

Bremerton WA 98314-5000

Landholding Agency: Navy

Property Number: 77200040020

Status: Excess

Reasons: Secured Area

Bldg. 8

Naval Reserve Center

Spokane WA 99205

Landholding Agency: Navy

Property Number: 77200430025

Status: Excess

Reasons: Extensive deterioration, Secured Area

Bldgs. 10, 11

Naval Reserve Center

Spokane WA 99205

Landholding Agency: Navy

Property Number: 77200430026

Status: Excess

Reasons: Secured Area, Extensive deterioration

Bldgs. 2656-2658

Naval Air Station

Lake Hancock

Coupeville Co: Island WA 98239

Landholding Agency: Navy

Property Number: 77200430027

Status: Unutilized

Reasons: Secured Area

Bldgs. 2652, 2705

Naval Air Station

Whidbey

Oak Harbor WA 98277

Landholding Agency: Navy

Property Number: 77200440010

Status: Unutilized

Reasons: Secured Area

Bldgs. 79, 884

NAS Whidbey Island

Seaplane Base

Oak Harbor WA 98277

Landholding Agency: Navy

Property Number: 77200440011

Status: Unutilized

Reasons: Secured Area

Bldg. 121

NAS Whidbey Island

Ault Field

Oak Harbor WA 98277

Landholding Agency: Navy

Property Number: 77200440012

Status: Unutilized

Reasons: Secured Area

Bldg. 419

NAS Whidbey Island

Ault Field

Oak Harbor WA 98277

Landholding Agency: Navy

Property Number: 77200440013

Status: Unutilized

Reasons: Secured Area

Bldgs. 2609, 2610

NAS Whidbey Island

Ault Field

Oak Harbor WA 98277

Landholding Agency: Navy

Property Number: 77200440014

Status: Unutilized

Reasons: Secured Area

Bldg. 2753

NAS Whidbey Island

Ault Field

Oak Harbor WA 98277

Landholding Agency: Navy

Property Number: 77200440015

Status: Unutilized

Reasons: Secured Area

Bldg. 108

Naval Magazine

Port Hadlock Co: Jefferson WA 98339-9723

Landholding Agency: Navy

Property Number: 77200510015

Status: Unutilized

Reasons: Extensive deterioration, Secured Area

Bldg. 351

Puget Sound Naval Shipyard

Bremerton WA 98314

Landholding Agency: Navy

Property Number: 77200530026

Status: Unutilized

Reasons: Within 2000 ft. of flammable or explosive material, Secured Area

Bldg. 1032

Naval Base

Bangor Tower Site

Silverdale WA 98315

Landholding Agency: Navy

Property Number: 77200630045

Status: Unutilized

Reasons: Within 2000 ft. of flammable or explosive material, Secured Area

Bldg. 71

Naval Magazine

Port Hadlock Co: Jefferson WA 98339-9723

Landholding Agency: Navy

Property Number: 77200640007

Status: Unutilized

Reasons: Extensive deterioration, Secured Area

Bldgs. 82, 83

Naval Magazine

Port Hadlock Co: Jefferson WA 98339-9723

Landholding Agency: Navy

Property Number: 77200640008

Status: Unutilized

Reasons: Secured Area, Extensive deterioration

Bldgs. 168, 188

Naval Magazine

Port Hadlock Co: Jefferson WA 98339-9723

Landholding Agency: Navy

Property Number: 77200640009

Status: Unutilized

Reasons: Secured Area, Extensive deterioration

Bldg. 729

Naval Magazine

Port Hadlock Co: Jefferson WA 98339-9723

Landholding Agency: Navy

Property Number: 77200640010

Status: Unutilized

Reasons: Extensive deterioration, Secured Area

Bldgs. 910, 921

Naval Magazine

Port Hadlock Co: Jefferson WA 98339-9723

Landholding Agency: Navy

Property Number: 77200640011

Status: Unutilized

Reasons: Secured Area, Extensive deterioration

Bldgs. 407, 447

Naval Base

Bremerton Co: Kitsap WA 98310

Landholding Agency: Navy

Property Number: 77200640014

Status: Excess

Reasons: Secured Area

Bldg. 867

Naval Base

Bremerton Co: Kitsap WA 98310

Landholding Agency: Navy

Property Number: 77200640015

Status: Excess

Reasons: Secured Area

Bldgs. 937, 975

Naval Base

Bremerton Co: Kitsap WA 98310

Landholding Agency: Navy

Property Number: 77200640016

Status: Excess

Reasons: Secured Area

Bldg. 1449

Naval Base

Silverdale Co: Kitsap WA 98315

Landholding Agency: Navy

Property Number: 77200640017

Status: Unutilized

Reasons: Secured Area

Bldg. 1670

Naval Base

Silverdale Co: Kitsap WA 98315

Landholding Agency: Navy

Property Number: 77200640018

Status: Unutilized

Reasons: Secured Area

Bldgs. 2007, 2801

Naval Base

Silverdale Co: Kitsap WA 98315

Landholding Agency: Navy

Property Number: 77200640019

Status: Unutilized

Reasons: Secured Area

Bldgs. 6021, 6095

Naval Base

Silverdale Co: Kitsap WA 98315

Landholding Agency: Navy

Property Number: 77200640020

Status: Unutilized

Reasons: Secured Area

Bldgs. 6606, 6661

Naval Base

Silverdale Co: Kitsap WA 98315

Landholding Agency: Navy

Property Number: 77200640021

Status: Unutilized

Reasons: Secured Area

Bldgs. 726, 727, 734

Naval Undersea Warfare

Keyport Co: Kitsap WA 98345

Landholding Agency: Navy

Property Number: 77200640022

Status: Unutilized

Reasons: Secured Area, Within 2000 ft. of flammable or explosive material

Bldgs. 901, 911

Naval Undersea Warfare

Keyport Co: Kitsap WA 98345

Landholding Agency: Navy

Property Number: 77200640023

Status: Unutilized

Reasons: Within 2000 ft. of flammable or explosive material, Secured Area

Bldgs. 925, 938

Naval Undersea Warfare

Keyport Co: Kitsap WA 98345

Landholding Agency: Navy

Property Number: 77200640024

Status: Unutilized

Reasons: Secured Area, Within 2000 ft. of flammable or explosive material

Bldg. 1020

Naval Undersea Warfare

Keyport Co: Kitsap WA 98345

Landholding Agency: Navy

Property Number: 77200640025

Status: Unutilized

Reasons: Within 2000 ft. of flammable or explosive material, Secured Area

Fisher Transit Site

Easement

Jefferson WA

Landholding Agency: Navy

Property Number: 77200710015

Status: Excess

Reasons: Other—Remote Location

Bldgs. 437, 853

Naval Base

Bremerton Co: Kitsap WA 98310

Landholding Agency: Navy

Property Number: 77200710018

Status: Unutilized

Reasons: Secured Area

Bldg. 1039

Naval Base

Bremerton Co: Kitsap WA 98310

Landholding Agency: Navy

Property Number: 77200710019

Status: Unutilized

Reasons: Within 2000 ft. of flammable or explosive material, Secured Area

Bldgs. 1400, 1461

Naval Base

Bremerton Co: Kitsap WA 98310

Landholding Agency: Navy

Property Number: 77200710020

Status: Unutilized

Reasons: Within 2000 ft. of flammable or explosive material, Secured Area

Bldg. 6026

Naval Base

Bremerton Co: Kitsap WA 98310

Landholding Agency: Navy

Property Number: 77200710021

Status: Unutilized

Reasons: Within 2000 ft. of flammable or explosive material, Secured Area

Bldgs. 6608, 6609, 6904

Naval Base

Bremerton Co: Kitsap WA 98310

Landholding Agency: Navy

Property Number: 77200710022

Status: Unutilized

Reasons: Within 2000 ft. of flammable or explosive material, Secured Area

Bldgs. 110, 116

Naval Air Station

Oak Harbor WA 98278

Landholding Agency: Navy

Property Number: 77200740013

Status: Excess

Reasons: Secured Area

Bldg. 839

Puget Sound Naval Shipyard

Bremerton WA 98314

Landholding Agency: Navy

Property Number: 77200740014

Status: Excess

Reasons: Secured Area, Within 2000 ft. of flammable or explosive material

Bldgs. 402, 403, 2634

Naval Air Station

Oak Harbor Co: Whidbey Island WA 96278

Landholding Agency: Navy

Property Number: 77200810020

Status: Excess

Reasons: Extensive deterioration

Bldg. 7658

Naval Base

Bangor WA

Landholding Agency: Navy

Property Number: 77200830017

Status: Excess

Reasons: Secured Area, Extensive deterioration

Bldgs. 986, 987

Naval Air Station

Whidbey Island

Oak Harbor WA 98278

Landholding Agency: Navy

Property Number: 77200840001

Status: Unutilized

Reasons: Secured Area

Bldg. 94

Naval Air Station

Whidbey Island

Oak Harbor WA 98278

Landholding Agency: Navy

Property Number: 77200840002

Status: Excess

Reasons: Secured Area

Bldgs. 20, 62, 2616, 2663

Naval Air Station

Whidbey Island WA

Landholding Agency: Navy

Property Number: 77200840017

Status: Excess

Reasons: Secured Area

Bldg. 113

Naval Air Station

Whidbey Island WA 98278

Landholding Agency: Navy

Property Number: 77200920017

Status: Excess

Reasons: Secured Area

6 Bldgs.

Naval Air Station

Whidbey Island WA 98278

Landholding Agency: Navy

Property Number: 77200920018

Status: Unutilized

Directions: 175, 855, 2601, 2602, 2603, 2604

Reasons: Secured Area, Extensive deterioration

Bldg. 1013

Naval Base Kitsap

Bangor WA

Landholding Agency: Navy

Property Number: 77200920019

Status: Unutilized

Reasons: Secured Area, Extensive deterioration

Bldgs. 2660, 2661, 2662

Naval Air Station

Whidbey Island WA 98278

Landholding Agency: Navy

Property Number: 77200920047

Status: Unutilized

Reasons: Extensive deterioration

Bldg. 130

Naval Station

Pacific Beach WA 98571

Landholding Agency: Navy

Property Number: 77200930011

Status: Excess

Reasons: Extensive deterioration

Bldg. 171

Naval Magazine

Indian Island

Port Hadock WA 98339

Landholding Agency: Navy

Property Number: 77200940003

Status: Excess

Reasons: Extensive deterioration, Secured Area

GM-1, Gold Mountain

Naval Base

Transmitter/Generator Bldg.

Kitsap WA

Landholding Agency: Navy

Property Number: 77200940004

Status: Excess

Reasons: Secured Area

Bldg. 513

Naval Base

Bremerton WA

Landholding Agency: Navy

Property Number: 77201010010

Status: Excess

Reasons: Secured Area, Within 2000 ft. of flammable or explosive material

4 Bldgs.

Naval Base

Kitsap WA

Landholding Agency: Navy

Property Number: 77201020005

Status: Unutilized

Directions: Bldg. Nos. 499, 806, 929, and 5436

Reasons: Secured Area

Bldg. 17A

Naval Air Station

Oak Harbor WA 98278

Landholding Agency: Navy

Property Number: 77201020020

Status: Excess

Reasons: Extensive deterioration

5 Bldgs.

Naval Air Station

Oak Harbor WA 98278

Landholding Agency: Navy

Property Number: 77201020021

Status: Excess

Directions: 2506, 2744, 2745, 2746, and 2809

Reasons: Secured Area, Extensive deterioration

West Virginia

Bldgs. 102, 106, 111

Air National Guard

Martinsburg WV 25405

Landholding Agency: Air Force

Property Number: 18200920013

Status: Unutilized

Reasons: Within 2000 ft. of flammable or explosive material, Secured Area

Bldgs. 101, 110

Air National Guard

Martinsburg WV 25405

Landholding Agency: Air Force

Property Number: 18200940018

Status: Unutilized

Reasons: Within 2000 ft. of flammable or explosive material, Secured Area

Wyoming

Bldg. 00012

Cheyenne RAP

Laramie WY 82009

Landholding Agency: Air Force

Property Number: 18200730013

Status: Unutilized

Reasons: Within 2000 ft. of flammable or explosive material, Secured Area, Extensive deterioration

Eden Valley Landfill

Eden WY 82932

Landholding Agency: GSA

Property Number: 54201030015

Status: Surplus

GSA Number: 7-I-WY-551

Reasons: Contamination

Land

California

Facilities 99001 thru 99006

Pt Arena AF Station

Mendocino CA 95468

Landholding Agency: Air Force

Property Number: 18200820028

Status: Excess

Reasons: Secured Area

7 Facilities

Pt. Arena Comm Annex

Mendocino CA 95468

Landholding Agency: Air Force

Property Number: 18200820031

Status: Excess

Directions: 99001, 99003, 99004, 99005, 99006, 99007, 99008

Reasons: Secured Area

Facilities 99002 thru 99014

Pt. Arena Water Sys Annex

Mendocino CA 95468

Landholding Agency: Air Force

Property Number: 18200820032

Status: Excess

Reasons: Secured Area

Santa Susana Field Lab

Ventura CA 93063

Landholding Agency: GSA

Property Number: 54201030011

Status: Excess

GSA Number: 9-Z-CA-1666

Reasons: Contamination, Within 2000 ft. of flammable or explosive material, Secured Area

Parcel B-2 Right of Way

Seal Beach CA

Landholding Agency: GSA

Property Number: 54201030013

Status: Surplus

GSA Number: 9-N-CA-1508-AC

Reasons: Other—inaccessible

Trailer Space

Naval Base

San Diego CA

Landholding Agency: Navy

Property Number: 77200520013

Status: Unutilized

Reasons: Secured Area

Parcels 1, 2, 3, 4

Naval Base

Port Hueneme Co: Ventura CA 93043

Landholding Agency: Navy

Property Number: 77200630003

Status: Underutilized

Reasons: Secured Area

Parcels 11, 12, 13, 14, 15

Naval Base

Port Hueneme Co: Ventura CA 93043

Landholding Agency: Navy

Property Number: 77200630004

Status: Underutilized

Reasons: Secured Area

Sand Spit

Naval Base

Port Hueneme Co: Ventura CA 93043

Landholding Agency: Navy

Property Number: 77200720008

Status: Underutilized

Reasons: Floodway

Colorado

3 Parcels

5679, 5859, 6104

Olathe CO 81425

Landholding Agency: Interior

Property Number: 61201020012

Status: Excess

Reasons: Other—landlocked

Florida

Defense Fuel Supply Point

Lynn Haven FL 32444

Landholding Agency: Air Force

Property Number: 18200740009

Status: Excess

Reasons: Floodway

Illinois

Annex

Scolt Radio Relay

Belleville IL 62221

Landholding Agency: Air Force

Property Number: 18201020011

Status: Unutilized

Reasons: Secured Area

Indiana

1.059 acres

Grissom AFB

Peru IN 46970

Landholding Agency: Air Force

Property Number: 18200940012

Status: Excess

Reasons: Within 2000 ft. of flammable or explosive material

Approx. 0.2 acre

Naval Support Activity

Crane IN 47522

Landholding Agency: Navy

Property Number: 77200910006

Status: Underutilized

Reasons: Within 2000 ft. of flammable or explosive material, Secured Area

Maryland

Site A: 6.2 acres

Naval Support Activity

Indian Head MD 20640

Landholding Agency: Navy

Property Number: 77201020003

Status: Underutilized

Reasons: Secured Area

Approx. 80 acres

Fort Washington

Prince George MD 20744

Landholding Agency: Navy

Property Number: 77201030011

Status: Unutilized

Reasons: Secured Area

South Carolina

Laurel Bay Tract

Marine Corps Air Station

Beaufort SC

Landholding Agency: Navy

Property Number: 77200830010

Status: Excess

Reasons: Secured Area

Texas

Rattlesnake ESS

FNWZ, Dyess AFB

Pecos TX 79772

Landholding Agency: Air Force

Property Number: 18200920011

Status: Unutilized

Reasons: Secured Area

24 acres

Tethered Aerostate Radar Site

Matagorda TX 77457

Landholding Agency: Air Force

Property Number: 18200920022

Status: Excess

Reasons: Secured Area

FNXH 99100

Dyess AFB

Dyess AFB TX 79607

Landholding Agency: Air Force

Property Number: 18200930012

Status: Unutilized

Reasons: Within 2000 ft. of flammable or explosive material

2.43 acre/0.36 acre

Dyess AFB

Dyess AFB TX 79563

Landholding Agency: Air Force

Property Number: 18200930014

Status: Unutilized

Directions: FNXL 99104, 99108, 99110, 99112, FNXM 99102, 99103, 99108

Reasons: Within airport runway clear zone

Washington

405 sq. ft./Land

Naval Base Kitsap

Bangor WA

Landholding Agency: Navy

Property Number: 77200520060

Status: Unutilized

Reasons: Secured Area

230 sq. ft. land

Naval Magazine

Indian Island WA

Landholding Agency: Navy

Property Number: 77200620037

Status: Underutilized

Reasons: Secured Area, Within 2000 ft. of flammable or explosive material

Tabook Transit Site

Easement

Jefferson WA

Landholding Agency: Navy

Property Number: 77200710016

Status: Excess

Reasons: Other—Remote Location

900 sq. ft. land

Naval Base

Bremerton WA

Landholding Agency: Navy

Property Number: 77201020023

Status: Underutilized

Reasons: Secured Area

[FR Doc. 2010-21731 Filed 9-2-10; 8:45 am]

BILLING CODE 4210-67-P